FEDERAL ELECTION COMMISSION

[Notice 2007-28]

Privacy Act of 1974; Systems of Records

AGENCY: Federal Election Commission.

ACTION: Notice of New and Revised Systems of Records.

SUMMARY: In accordance with the Privacy Act of 1974, as amended, 5 U.S.C. 552a, the Federal Election Commission (“the FEC” or “the Commission” or “the agency”) is publishing for comment new and revised systems of records that are maintained by the Commission. These systems have been proposed or revised as a result of a reevaluation of the manner in which the Commission maintains records. The Commission is deleting an obsolete system of records entitled FEC 4, Mailing Lists, and a duplicative system of records entitled FEC 5, Personnel Records. The four new proposed systems of records that have been added are entitled: FEC 13, Travel Records of Employees; FEC 14, Alternative Dispute Resolution Program; FEC 15, Freedom of Information Act System; and FEC 16, HSPD-12: Identity Management, Personnel Security, Physical and Logical Access Files. With the exception of FEC 12, all other systems have been revised to incorporate administrative changes that have taken place since the last complete publication of FEC systems of records on December 15, 1997.

DATES: Comments on the establishment of the new systems of records, as well as the revisions to existing records systems, must be received no later than February 1, 2008. The new systems of records and revisions will be effective February 11, 2008 unless the Commission receives comments that would result in a contrary determination.

ADDRESSES: Comments should be addressed in writing to Lawrence L. Calvert, Acting Co-Chief Privacy Officer, Federal Election Commission, 999 E Street, NW., Washington, DC 20463, by close of business on February 1, 2008. Comments may also be sent via electronic mail to Privacy@fec.gov.

SUPPLEMENTARY INFORMATION: The Privacy Act regulates the collection, maintenance, use and dissemination of information about individuals by Federal agencies. Its basic rule generally prohibits the disclosure of any individual's “record,” if contained in a “system of records” to a third party without the individual's consent. See 5 U.S.C. 552a(b). A “system of records” is any group of records in which records can be retrieved by the individual's name, or by a unique identifier assigned to the individual. See 5 U.S.C. 552a(a)(5).

There are a number of exceptions to the basic rule of nondisclosure without consent. Among them is an exception that permits nonconsensual disclosure for a “routine use”—that is, a use compatible with the purposes for which the record was collected. 5 U.S.C. 552a(b)(3). Individuals are also, again with exceptions, guaranteed access to their records, and the right to request amendment of their records if they believe the records are inaccurate. See generally 5 U.S.C. 552a(d).

To facilitate these provisions, each agency must periodically review its systems of records and publish a notice in the Federal Register containing certain specified information about them. The FEC has undertaken and completed such a review. As a result of this review, the Commission determined that its Privacy Act notices required extensive modifications to more accurately describe the records systems currently maintained by the Commission. Rather than making numerous, piecemeal revisions, the Commission decided to draft and republish updated notices for all of its Privacy Act systems of records. By doing so, the Commission hopes to make these notices as clear and accessible to the public as possible.

The public is advised that the “routine uses” described herein are not the exclusive list of circumstances in which the Commission may share Privacy Act protected information with a third party without the consent of the individual to whom the records pertain. The “routine use” exception, 5 U.S.C. 552a(b)(3), is only one of twelve specific exceptions to the rule of nondisclosure contained within the Privacy Act itself—one of the most important of which is information for which disclosure is required pursuant to the Freedom of Information Act, 5 U.S.C. 552. See 5 U.S.C. 552a(b)(2). Another exception to the rule of nondisclosure is disclosure to either House of Congress, or a committee of the Congress when the inquiry concerns a matter within the committee's jurisdiction. See 5 U.S.C. 552a(b)(9). The proposed changes to the FEC's routine uses do not limit or alter these other exceptions. Conversely, the inclusion of a “routine use” in this notice does not necessarily mean that information will always be disclosed under all circumstances described as a “routine use.” For instance, records in FEC 3, Compliance Actions, may not be disclosed even pursuant to a routine use if disclosure is prohibited by 2 U.S.C. 437g(a)(12) (covering enforcement matters still open) or 2 U.S.C. 437g(a)(4) (covering information derived from conciliation attempts in any matter). Similarly, records in FEC 12, Inspector General Investigative Files, may not be disclosed if a matter is pending.

The proposed changes to the system entitled FEC 1, Advisory Opinions Process include: Revising the “System name,” adding data elements “Security classification,” “Purpose(s),” “Disclosure to consumer reporting agencies,” and “Exemptions claimed for the system” to comply with Office of Management and Budget (OMB) and Federal Register requirements; expanding the “Categories of individuals covered by the system” and “Record source categories;” adding routine uses Nos. 3 through 13; updating “Storage,” “Retrievability,” “Safeguards,” “Retention and disposal,” and “System manager(s) and address;” clarifying “Notification procedure,” “Record access procedures,” and “Contesting record procedures;” and technical revisions.

The proposed changes to the system entitled FEC 2, Audits and Investigations include: Adding data elements “Security classification,” “Purpose(s),” “Disclosure to consumer reporting agencies,” and “Exemptions claimed for the system” to comply with OMB and Federal Register requirements; expanding the “Categories of individuals covered by the system” and “Record source categories;” clarifying the “Categories of records in the system;” adding routine uses Nos. 3 through 9; updating “Storage,” “Retrievability,” “Safeguards,” and “Retention and disposal;” clarifying “Notification procedure;” “Record access procedures,” and “Contesting record procedures;” and technical revisions.

The proposed changes to the system entitled FEC 3, Compliance Actions include: Adding data elements “Security classification,” “Purpose(s),” and “Disclosure to consumer reporting agencies;” expanding the “Categories of individuals covered by the system” and “Categories of records in the system;” adding routine uses Nos. 3 through 15; updating “Storage,” “Retrievability,” “Safeguards,” “Retention and disposal,” and “System manager(s) and address;” clarifying “Notification procedure,” “Record access procedures,” and “Contesting record procedures;” and technical revisions.

The FEC is deleting the system entitled FEC 4, Mailing Lists, because the system of records is no longer searchable by name or other unique identifier, and thus, does not require a System of Records Notice. The FEC is also deleting FEC 5, Personnel Records, because the system is covered by Office of Personnel Management government-wide systems of records (OPM/GOVT-1, 2, 3, 5 and 10).

The proposed changes to the system entitled FEC 6, Candidate Reports and Designations include: Adding data elements “Security classification,” “Purpose(s),” “Disclosure to consumer reporting agencies,” and “Exemptions claimed for the system” to comply with OMB and Federal Register requirements; expanding “Categories of individuals covered by the system;” clarifying “Categories of records in the system;” deleting routine uses; updating “System location,” “Storage,” “Retrievability,” “Safeguards,” “Retention and disposal,” and “System manager(s) and address;” clarifying “Notification procedure,” “Record access procedures,” “Contesting record procedures;” and “Record source categories;” and technical revisions.

The proposed changes to the system entitled FEC 7, Certification for Primary Matching Funds and General Elections Campaign Funds include: Adding data elements “Security classification,” “Purpose(s),” “Disclosure to consumer reporting agencies,” and “Exemptions claimed for the system;” updating “System location;” expanding “Categories of individuals covered by the system;” clarifying “Categories of records in the system,” adding routine uses Nos. 3 through 10; updating “Storage,” “Retrievability,” “Safeguards,” “Retention and disposal,” and “System manager(s) and address;” clarifying “Notification procedure,” “Record access procedures,” and “Contesting record procedures;” and technical revisions.

The proposed changes to the system entitled FEC 8, Payroll Records include: Adding data elements “Security classification,” “Categories of individuals covered by the system,” “Purpose(s),” “Disclosure to consumer reporting agencies;” and “Exemptions claimed for the system” to comply with OMB and Federal Register requirements; updating “System location;” expanding “Categories of records in the system;” re-numbering and adding routine uses Nos. 1 through 33; updating “Storage;” “Retrievability,” “Safeguards,” and “System manager(s) and address;” clarifying “Notification procedure,” “Record access procedures” and “Contesting record procedures;” and technical revisions.

The proposed changes to the system entitled FEC 9, Litigation Actions include: Adding data elements “Security classification,” “Purpose(s),” “Disclosure to consumer reporting agencies,” and “Exemptions claimed for the system” to comply with Federal Register requirements; expanding the “Categories of individuals covered by the system” and “Categories of records in the system;” adding routine uses Nos. 3-13; updating “Storage,” “Retrievability,” “Safeguards,” “Retention and disposal,” and “System manager(s) and address;” clarifying the “Notification procedure,” “Record access procedures,” and “Contesting record procedures;” and technical revisions.

The proposed changes to the system entitled FEC 10, Letter File. Public Communications include: Adding data elements “Security classification,” “Purpose(s),” “Disclosure to consumer reporting agencies,” “Safeguards,” and “Exemptions claimed for the system” to comply with OMB and Federal Register requirements; updating “System location;” expanding the “Categories of individuals covered by the system;” clarifying the “Categories of records in the system,” adding routine uses Nos. 3 through 12; updating “Retrievability,” “Retention and disposal,” and “System manager(s) and address;” clarifying “Notification procedure;” “Record access procedures,” “Contesting record procedures,” and “Record source categories;” and technical revisions.

The proposed changes to the system entitled FEC 11, Contributor Name Index System include: Adding data elements “Security classification,” “Purpose(s),” “Disclosure to consumer reporting agencies,” and “Exemptions claimed for the system” to comply with OMB and Federal Register requirements; updating “System location;” expanding “Categories of individuals covered by the system;” clarifying “Categories of records in the system;” deleting routine uses; updating “Storage,” “Retrievability,” “Safeguards,” “Retention and disposal,” and “System manager(s) and address;” clarifying “Notification procedure,” “Record access procedures,” and “Contesting record procedures,” expanding “Record source categories;” and technical revisions.

The Commission recently published a proposed notice of revised system of records covering the system entitled FEC 12, Inspector General Investigative Files. 72 FR 3141 (January 24, 2007). Thus, changes to FEC 12 include only technical revisions.

The FEC proposes to establish the system of records entitled FEC 13, Travel Records of Employees. FEC 13 would cover travel records of FEC employees.

The FEC proposes to establish the system of records entitled FEC 14, Alternative Dispute Resolution Program. FEC 14 would cover documents generated by the FEC's Alternative Dispute Resolution (ADR) program. The ADR program was established to provide parties in enforcement actions with an alternative method for resolving complaints filed against them or for addressing issues identified in the course of an FEC audit. The resolution process is designed to promote compliance with the Federal Election Campaign Act, as amended and Commission regulations and to reduce the cost of processing complaints by encouraging settlements outside the FEC's normal enforcement track.

The FEC proposes to establish the System of Records entitled FEC 15, FEC Freedom of Information Act System. The Freedom of Information Act (FOIA), 5 U.S.C. 552, generally provides any person with the right to obtain access to agency records unless the information is protected from disclosure by any of the nine exemptions or special law enforcement exclusions. FEC 15 would cover records of FEC compliance with the Freedom of Information Act (FOIA), such as FOIA requests, responses, and appeals.

The FEC proposes to establish FEC 16, HSPD-12: Identity Management, Personal Security, Physical and Logical Access Files. Homeland Security Presidential Directive 12 (HSPD-12) requires federal agencies to use a common identification credential for both logical and physical access to federally controlled facilities and information systems. The FEC plans to enter into a shared services support agreement with an approved shared service provider to automate the process of issuing credentials to all agency employees, contractors, volunteers, and other individuals who require routine, long-term access to agency facilities, systems, and networks. Credentials are issued based on sound criteria to verify an individual's identity, that are strongly resistant to fraud, tampering, counterfeiting, and terrorist exploitation, and that provide for rapid, electronic authentication of personal identity by a provider whose reliability has been established through an official accreditation process.

As required by 5 U.S.C. 552a(r) of the Privacy Act of 1974, as amended, and OMB Circular A-130, the FEC has submitted a report describing the new and altered systems of records covered by this notice to the Office of Management and Budget and to Congress.

Dated: December 19, 2007.
Robert D. Lenhard,
Chairman, Federal Election Commission.

Table Of Contents

FEC 1 Advisory Opinions Process.

FEC 2 Audits and Investigations.

FEC 3 Compliance Actions.

FEC 6 Candidate Reports and Designations.

FEC 7 Certification for Primary Matching Funds and General Election Campaign Funds.

FEC 8 Payroll Records.

FEC 9 Litigation Actions.

FEC 10 Letter File. Public Communications.

FEC 11 Contributor Name Index System.

FEC 12 Inspector General Investigative Files.

FEC 13 Travel Records of Employees.

FEC 14 Alternative Dispute Resolution Program.

FEC 15 FEC Freedom of Information Act System.

FEC 16 HSPD-12: Identity Management, Personnel Security, Physical and Logical Access Files.

FEC 1

System name:

Advisory Opinions Process.

Security classification:

Sensitive but unclassified; some records are public.

System location:

Federal Election Commission, Office of General Counsel, Policy Division, 999 E Street, NW., Washington, DC 20463.

Categories of individuals covered by the system:

Individuals who have submitted correspondence to the FEC requesting an advisory opinion under the Federal Election Campaign Act and FEC regulations; individuals who have submitted comments regarding advisory opinion drafts; current and former FEC staff assigned to handle requests.

Categories of records in the system:

The records in this system include paper and electronic correspondence, staff notes, Commissioners' comments, and advisory opinion drafts. May include the name, address, telephone number, e-mail address, employment information, political activity, and financial records of the correspondents.

Authority for maintenance of the system:

2 U.S.C. 437d(a)(7) and 437f.

Purpose(s):

The Federal Election Campaign Act of 1971, as amended, requires that the FEC render advisory opinions to persons with regard to subjects arising under the Act. See 2 U.S.C. 437f. The FEC gathers or creates the records in this system in the course of accepting and responding to requests for such advisory opinions. Commissioners and staff use this system to respond to requests for advisory opinions, and the documents are maintained for use as a reference in subsequent requests for advisory opinions. Advisory opinions issued before 2001 are available to the public online at Commission's Public Records Office. Advisory opinions, requests, draft opinions, amendments considered by the Commission in public session, public comments, and similar documents issued after 2001 are available to the public at e Public Records Office.

Routine uses of records maintained in the system, including categories of users and purposes of such uses:

These records and information contained in the records may be disclosed as follows:

1. To the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such records by the Department of Justice is deemed, after careful review, by the Federal Election Commission to be relevant and necessary to the litigation, provided, however, that in each case the agency determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Federal Election Commission determines that, after careful review, use of such records is relevant and necessary to the litigation, provided, however, that the agency determines that disclosure of the records is compatible with the purpose for which the records were collected.

3. To the news media or the general public, factual information the disclosure of which would be in the public interest and which would not constitute an unwarranted invasion of personal privacy.

4. To appropriate Federal, foreign, State, local, tribal, or other public authorities responsible for enforcing, investigating or prosecuting civil or criminal violations of law or as necessary to facilitate parallel investigations or to assist the other agency with the investigation or prosecution of a matter within its jurisdiction.

5. To Federal, State, and local law enforcement agencies and private security contractors, as appropriate, to enable them to protect the safety of Commission employees and visitors and the security of the Commission's workplace; and to assist investigations or prosecutions with respect to activities that affect such safety and security or activities that disrupt the operation of Commission facilities.

6. To a congressional office from the record of an individual in response to an inquiry from the congressional office made at the written request of the individual about whom the record is maintained (e.g., a constituent request). Disclosure will not be made until the congressional office has furnished appropriate documentation of the individual's request, such as a copy of the individual's written request.

7. To the National Archives and Records Administration or to the General Services Administration for records management inspections conducted under 44 U.S.C. 2903 and 2904.

8. To contractors (including employees of contractors), grantees, experts, or volunteers who have been engaged to assist the agency in the performance of a contract, service, grant, cooperative agreement, or other activity related to this system of records and who need to have access to the records in order to perform the activity for the agency. Recipients shall be required to comply with the requirements of the Privacy Act of 1974, as amended, 5 U.S.C. 552a.

9. To an authorized appeal grievance examiner, formal complaints examiner, equal employment opportunity investigator, arbitrator or other person properly engaged in investigation or settlement of an administrative grievance, complaint, claim, or appeal filed by an employee or former employee, but only to the extent that information is relevant and necessary to the proceeding. Agencies that may obtain information under this routine use include, but are not limited to, the Office of Personnel Management, Office of Special Counsel, Merit Systems Protection Board, Federal Labor Relations Authority, Equal Employment Opportunity Commission, and Office of Government Ethics.

10. To the Office of Personnel Management for matters concerned with oversight activities (necessary for the Office of Personnel Management to carry out its legally-authorized Government-wide personnel management programs and functions) and in their role as an investigation agency.

11. To officials of labor organizations when relevant and necessary to their duties of exclusive representation concerning personnel policies, practices, and matters affecting work conditions.

12. To agencies, offices, or establishments of the executive, legislative, or judicial branch of the Federal or State government after receipt of request and where the records or information is relevant and necessary to a decision on an employee's disciplinary or other administrative action (excluding a decision on hiring). The agency will take reasonable steps to ensure that the records are timely, relevant, accurate, and complete enough to assure fairness to the employee affected by the disciplinary or administrative action.

13. To appropriate agencies, entities, and persons when (1) the agency suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

Disclosure to consumer reporting agencies:

None.

Policies and practices for storing, retrieving, accessing, retaining, and disposing of records in the system:

Storage:

Paper records; microfilm; electronic format on agency computer networks.

Retrievability:

Microfilm and paper records are indexed and retrievable by name of requester, date of opinion, request number, subject, citation, or phrase, and, as applicable, by microfilm roll and frame number.

Records maintained in electronic form on agency computer networks may be retrieved by agency personnel using Case Management System software, the Office of General Counsel (OGC) Internal Index, or the Commission's Web site and are retrievable by name of requestor, request number, date of opinion, subject, citation, phrase, and name of current or former staff who handled the request.

The Commission's published advisory opinions are available for public review in the Commission's Public Records Office and on the FEC's Internet web page and are indexed by request number and are full-text searchable. All advisory opinions and many requests and draft opinions are also available on microfilm. Members of the public may retrieve any advisory opinion online. For opinions issued after 2001, members of the public may view in the Public Records Office, the requests, draft opinions, and amendments considered by the Commission in public session, public comments, and similar documents. These documents are also available on the Commission's Web site.

Safeguards:

Records in this system of records are under the custody of designated employees of the Commission. Access to the records is limited to employees requiring access to the information contained therein to further the agency's mission. Electronic records that are not available on the Commission's Web site are protected from unauthorized access through appropriate administrative, physical, and technical safeguards. These safeguards include the application of appropriate access control mechanisms to ensure the confidentiality, integrity, and availability of those records and that they are only accessed by those with a need to know and dictated by their official duties.

Retention and disposal:

Paper copies are retained for at least four years from date of receipt and subject to disposal thereafter. Electronic and microfilm copies are available indefinitely.

System manager(s) and address:

Associate General Counsel for Policy, Office of General Counsel, Federal Election Commission, 999 E Street, NW., Washington, DC 20463, (202/694-1650).

Notification procedure:

A request for notification of the existence of records may be made in person or in writing to the Associate General Counsel for Policy, Office of General Counsel, Federal Election Commission, 999 E Street, NW., Washington, DC 20463. For additional information, refer to the Commission's access regulations at 11 CFR parts 1.1-1.5, 41 FR 43064 (1976).

Record access procedures:

An individual interested in gaining access to a record pertaining to him or her may make a request in person or in writing to the Associate General Counsel for Policy, Office of General Counsel, Federal Election Commission at the following address: 999 E Street, NW., Washington, DC 20463. For additional information, refer to the Commission's access regulations at 11 CFR parts 1.1-1.5, 41 FR 43064 (1976).

Contesting record procedures:

Individuals interested in contesting the information contained in their records or the denial of access to such information should notify the Associate General Counsel for Policy, Office of General Counsel, Federal Election Commission at the following address: 999 E Street, NW., Washington, DC 20463. For additional information, refer to the Commission's regulations for contesting initial denials for access to or amendment of records, 11 CFR parts 1.7-1.9, 41 FR 43064 (1976).

Record source categories:

Information is provided by individual requesters of advisory opinions, persons submitting comments to the FEC with regard to the request, and FEC staff.

Exemptions claimed for the system:

None.

FEC 2

System name:

Audits and Investigations.

Security classification:

Sensitive but unclassified; some records are public.

System location:

Federal Election Commission, Audit Division, 999 E Street, NW., Washington, DC 20463.

Categories of individuals covered by the system:

Candidates required to file statements and reports under the Federal Election Campaign Act; treasurers or other representatives of political committees.

Categories of records in the system:

Documents related to audits and investigations. The records contained in this system may include the name, address, telephone number, and financial data of the subjects of audits and investigations.

Authority for maintenance of the system:

2 U.S.C. 437d(a)(9), 437g(a)(2), (5) and 438(a)(8), (9); 26 U.S.C. 9007, 9038.

Purpose(s):

The information contained in the records maintained in this system is used to verify compliance with the Federal Election Campaign Act and to verify compliance with, and eligibility for, funds pursuant to the Presidential Campaign Matching Fund Act and the Presidential Primary Matching Payment Account Act.

Routine uses of records maintained in the system, including categories of users and the purposes of such uses:

These records and information contained in the records may be disclosed as follows:

1. To disclose them to the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such records by the Department of Justice is deemed, after careful review, by the Federal Election Commission to be relevant and necessary to the litigation, provided, however, that in each case the agency determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Federal Election Commission determines that, after careful review, use of such records is relevant and necessary to the litigation, provided, however, that the agency determines that disclosure of the records is compatible with the purpose for which the records were collected.

3. To the general public but only to the extent the information is contained in, or relates to, a proposed Final Audit Report considered by the Commission in public session or is contained in an approved Final Audit Report.

4. To appropriate Federal, foreign, State, local, tribal, or other public authorities responsible for enforcing, investigating or prosecuting civil or criminal violations of law or as necessary to facilitate parallel investigations or to assist the other agency with the investigation or prosecution of a matter within its jurisdiction.

5. To Federal, State, and local law enforcement agencies and private security contractors, as appropriate, to enable them to protect the safety of Commission employees and visitors and the security of the Commission's workplace; and to assist investigations or prosecutions with respect to activities that affect such safety and security or activities that disrupt the operation of Commission facilities.

6. To any source from which information is requested in the course of an investigation, to the extent necessary to identify the individual, inform the source of the nature and purpose of the investigation, and to identify the type of information requested.

7. To the National Archives and Records Administration or to the General Services Administration for records management inspections conducted under 44 U.S.C. 2903 and 2904.

8. To contractors (including employees of contractors), grantees, experts, or volunteers who have been engaged to assist the agency in the performance of a contract, service, grant, cooperative agreement, or other activity related to this system of records and who need to have access to the records in order to perform the activity for the agency. Recipients shall be required to comply with the requirements of the Privacy Act of 1974, as amended, 5 U.S.C. 552a.

9. To appropriate agencies, entities, and persons when (1) the agency suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

Disclosure to consumer reporting agencies:

None.

Policies and practices for storing, retrieving, accessing, retaining, and disposing of records in the system:

Storage:

Paper records; CD-Rom storage; and electronic format on agency networks.

Retrievability:

Indexed by name of auditee. The public may retrieve approved Final Audit Reports from a page on the Commission's Web site.

Safeguards:

Paper records are retained in locked safes in limited access locations. Access is limited to FEC staff on a restricted basis and to appropriate law enforcement agencies as directed by the Commission. Auditors in the field keep their audit documents under personal supervision or in locked cases. CD-ROMs are kept in locked file cabinets. All electronic records are protected from unauthorized access through appropriate administrative, physical, and technical safeguards. These safeguards include the application of appropriate access control mechanisms to ensure the confidentiality, integrity, and availability of those records and that they are only accessed by those with a need to know and dictated by their official duties.

Retention and disposal:

Records are maintained and disposed of in accordance with FEC records control schedules.

System manager(s) and address:

Assistant Staff Director for Audit, Federal Election Commission, 999 E Street, NW., Washington, DC 20463, (202/694-1200).

Notification procedure:

A request for notification of the existence of records may be made in person or in writing to the Assistant Staff Director for Audit, Federal Election Commission, 999 E Street, NW., Washington, DC 20463. For additional information, refer to the Commission's access regulations at 11 CFR parts 1.1-1.5, 41 FR 43064 (1976).

Record access procedures:

An individual interested in gaining access to a record pertaining to him or her may make a request in person or in writing to the Assistant Staff Director for Audit, Federal Election Commission at the following address: 999 E Street, NW., Washington, DC 20463. For additional information, refer to the Commission's access regulations at 11 CFR parts 1.1-1.5, 41 FR 43064 (1976).

Contesting record procedures:

Individuals interested in contesting the information contained in their records or the denial of access to such information should notify the Assistant Staff Director for Audit, Federal Election Commission at the following address: 999 E Street, NW., Washington, DC 20463. For additional information, refer to the Commission's regulations for contesting initial denials for access to or amendment of records, 11 CFR parts 1.7-1.9, 41 FR 43064 (1976).

Record source categories:

Information is provided by the candidate's authorized campaign committee, political committees, and political action committees. Information also may be obtained by subpoena from vendors and other individuals.

Exemptions claimed for the system:

With respect to open audits, this system is exempt pursuant to the provisions of 5 U.S.C 552a(k)(2). See 11 CFR 1.14. When the audit is closed, copies of final reports are available on the public record.

FEC 3

System name:

Compliance Actions.

Security classification:

Sensitive but unclassified; some material is public.

System location:

Federal Election Commission, Office of General Counsel, Complaints Examinations & Legal Administration Division, 999 E Street, NW., Washington, DC 20463.

Categories of individuals covered by the system:

Individuals who have filed complaints under the Federal Election Campaign Act (2 U.S.C. 431 et seq.) (complainants); individuals who are the subjects of complaints (respondents), including treasurers of respondent political committees, and counsel; candidates filing late or inaccurate reports, or no reports; witnesses and other individuals providing information with respect to a compliance matter; and current and former FEC personnel, including RAD analysts, auditors, attorneys and investigators.

Categories of records in the system:

Complaints, sua-sponte submissions, referrals, and responses thereto; documents generated in the course of internally-generated investigations of reports on file at the Commission; documents generated and received in the course of investigations of complaints and referrals, including General Counsel's Reports, briefs, deposition and transcripts, interrogatories and responses thereto, hearing records, Subpoenas and orders, documents received from other government agencies, other documentary evidence, documents in the course of conciliation, and memoranda and notes created by agency personnel with respect to investigations. May include the name, address, Social Security Number, telephone number, e-mail address, employment information, education, political activity records, tax records, travel records, and financial records of the subjects of compliance actions or other individuals covered by the system.

Authority for maintenance of the system:

2 U.S.C. 437g(a)(1), (2), (4) and (5); 438(a)(7) and 438(b); 26 U.S.C. 9006 and 9038.

Purpose(s):

The Federal Election Campaign Act of 1971, as amended, requires that the FEC enforce the provisions of the Act. The FEC gathers or creates the records in this system in the course of investigating and acting as civil prosecutor for alleged violations of the Act. While any compliance action is active, these records are maintained as the agency's working or investigative file for the Matter Under Review (MUR). Based upon information contained in the file, recommendations are made to the Commission as to the disposition of a case, and the Commission acts upon those recommendations. The Associate General Counsel assigns compliance actions to an attorney and/or to appropriate staff for investigation. Administrative action pursuant to 2 U.S.C. 437g and civil litigation are handled by the General Counsel's Office. Upon the closing of the compliance matter, certain documents are placed on the public record.

Routine uses of records maintained in the system, including categories of users and the purposes of such uses:

These records and information contained in the records may be disclosed as follows:

1. To the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such records by the Department of Justice is deemed, after careful review, by the Federal Election Commission to be relevant and necessary to the litigation, provided, however, that in each case the agency determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Federal Election Commission determines that, after careful review, use of such records is relevant and necessary to the litigation, provided, however, that the agency determines that disclosure of the records is compatible with the purpose for which the records were collected.

3. To the Attorney General of the United States to refer evidence of knowing and willful violations of the law.

4. Upon the closing of the compliance matter, to place certain documents on the public record of the agency, pursuant to guidance promulgated by the Commission. Before the documents are released to the public, Commission personnel review and redact information that is not disclosable under the Freedom of Information Act, such as personal information (i.e., home addresses, home telephone numbers, and bank account numbers).

5. To appropriate Federal, foreign, State, local, tribal, or other public authorities responsible for enforcing, investigating or prosecuting civil or criminal violations of law for purposes of reporting the information to those authorities pursuant to 2 U.S.C. 437d(a)(9) or as otherwise necessary to facilitate parallel investigations or to assist the other agency with the investigation or prosecution of a matter within its jurisdiction.

6. To Federal, State, and local law enforcement agencies and private security contractors, as appropriate, to enable them to protect the safety of Commission employees and visitors and the security of the Commission's workplace; and to assist investigations or prosecutions with respect to activities that affect such safety and security or activities that disrupt the operation of Commission facilities.

7. To any source from which information is requested in the course of an investigation, to the extent necessary to identify the individual, inform the source of the nature and purpose of the investigation, and to identify the type of information requested.

8. To a Federal, State, local, foreign, tribal or other public authority of the fact that this system of records contains information relevant to the retention of an employee, the retention of a security clearance, the letting of a contract, or the issuance or retention of a license, grant, or other benefit. The other agency or licensing organization may then make a request supported by written consent of the individual for the entire record if it so chooses. No disclosure will be made unless the information has been determined to be sufficiently reliable to support a referral to another office within the agency or to another Federal agency for criminal, civil, administrative, personnel, or regulatory action.

9. To the National Archives and Records Administration or to the General Services Administration for records management inspections conducted under 44 U.S.C. 2903 and 2904.

10. To contractors (including employees of contractors), grantees, experts, or volunteers who have been engaged to assist the agency in the performance of a contract, service, grant, cooperative agreement, or other activity related to this system of records and who need to have access to the records in order to perform the activity for the agency. Recipients shall be required to comply with the requirements of the Privacy Act of 1974, as amended, 5 U.S.C. 552a.

11. To an authorized appeal grievance examiner, formal complaints examiner, equal employment opportunity investigator, arbitrator or other person properly engaged in investigation or settlement of an administrative grievance, complaint, claim, or appeal filed by an employee or former employee, but only to the extent that information is relevant and necessary to the proceeding. Agencies that may obtain information under this routine use include, but are not limited to, the Office of Personnel Management, Office of Special Counsel, Merit Systems Protection Board, Federal Labor Relations Authority, Equal Employment Opportunity Commission, and Office of Government Ethics.

12. To the Office of Personnel Management for matters concerned with oversight activities (necessary for the Office of Personnel Management to carry out its legally-authorized Government-wide personnel management programs and functions) and in their role as an investigation agency.

13. To officials of labor organizations when relevant and necessary to their duties of exclusive representation concerning personnel policies, practices, and matters affecting work conditions.

14. To agencies, offices, or establishments of the executive, legislative, or judicial branch of the Federal or State government after receipt of request and where the records or information is relevant and necessary to a decision on an employee's disciplinary or other administrative action (excluding a decision on hiring). The agency will take reasonable steps to ensure that the records are timely, relevant, accurate, and complete enough to assure fairness to the employee affected by the disciplinary or administrative action.

15. To appropriate agencies, entities, and persons when (1) the agency suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

Disclosure to consumer reporting agencies:

Pursuant to 5 U.S.C. 552a(b)(12), records can be disclosed to consumer reporting agencies as they are defined in the Fair Credit Reporting Act.

Policies and practices for storing, retrieving, accessing, retaining, and disposing of records in the system:

Storage:

Records are maintained in electronic form on agency computer networks, on

Retrievability:

Microfilm and paper records are indexed and retrievable by name of complainant or respondent, by compliance action number, or by microfilm roll and frame number, as appropriate.

Electronic records are maintained on agency computer networks and may be retrieved using software systems that support the agency's compliance mission. The Case Management System (CMS), Concordance, and Docs open databases are available only to agency personnel. When a compliance matter has been closed, certain records are placed on the agency's public record, and may be retrieved by the public through the agency's Web site using the Enforcement Query System.

Safeguards:

Records in this system of records are under the custody of designated employees of the Commission. Access to the records is limited to employees requiring access to the information contained therein to further the agency's compliance mission. Paper and microfilm records in this system are kept in locked filing cabinets in limited access areas under personal surveillance during working hours, and in locked filing cabinets in locked rooms at other times. All electronic records are protected from unauthorized access through appropriate administrative, physical, and technical safeguards. These safeguards include the application of appropriate access control mechanisms to ensure the confidentiality, integrity, and availability of those records and that they are only accessed by those with a need to know and dictated by their official duties. Prior to making documents publicly available through the Electronic Query System, the Office of General Counsel thoroughly reviews each record to remove information deemed to be exempt under the Freedom of Information Act.

Retention and disposal:

Records are maintained and disposed of in accordance with FEC records control schedules.

System manager(s) and address:

Special Counsel for Complaints Examinations & Legal Administration, Office of General Counsel, Federal Election Commission, 999 E Street, NW., Washington, DC 20463, (202/694-1650).

Notification procedure:

A request for notification of the existence of records may be made in person or in writing to the Special Counsel for Complaints Examinations & Legal Administration, Office of General Counsel, Federal Election Commission, 999 E Street, NW., Washington, DC 20463. For additional information, refer to the Commission's access regulations at 11 CFR parts 1.1-1.5, 41 FR 43064 (1976).

Record access procedures:

An individual interested in gaining access to a record pertaining to him or her may make a request in person or in writing to the Special Counsel for Complaints Examinations & Legal Administration, Office of General Counsel, Federal Election Commission at the following address: 999 E Street, NW., Washington, DC 20463. For additional information, refer to the Commission's access regulations at 11 CFR parts 1.1-1.5, 41 FR 43064 (1976).

Contesting record procedures:

Individuals interested in contesting the information contained in their records or the denial of access to such information should notify the Special Counsel for Complaints Examinations & Legal Administration, Office of General Counsel, Federal Election Commission at the following address: 999 E Street, NW., Washington, DC 20463. For additional information, refer to the Commission's regulations for contesting initial denials for access to or amendment of records, 11 CFR parts 1.7-1.9, 41 FR 43064 (1976).

Record source categories:

Information is obtained from a variety of sources, including but not limited to complainants, respondents, third parties who have been requested, or subpoenaed, to produce relevant information, referrals, other Federal, State, or local authorities, financial institutions, and the Federal Election Commission. Information is also obtained from individuals covered by the system.

Exemptions claimed for the system:

With respect to open investigations, the system is exempt pursuant to 5 U.S.C. 552a(k)(2). See 11 CFR part 1.14.

FEC 6

System name:

Candidate Reports and Designations.

Security classification:

Public.

System location:

Federal Election Commission, Public Disclosure Division, 999 E Street, NW., Washington, DC 20463.

Categories of individuals covered by the system:

Candidates for Federal office required to file reports of contributions and expenditures; sources of receipts and recipients of disbursements, including contributors and vendors; and treasurers of Candidate Committees.

Categories of records in the system:

Reports and Statements of candidates; reports by delegates and other persons making contributions or independent expenditures; and designations on behalf of a Federal candidate but not through a political committee, candidate, or authorized committee or agent of a candidate. May include the name, address, telephone number, e-mail address, employment information, political affiliation and financial records of the candidate or treasurer. May include the name, address, occupation, name of employer, and amounts of contribution of any person who contributes more than $200 in a calendar year to a Federal political committee (or $200 in an election cycle, in the case of contributors to the authorized committee of candidates for Federal office).

Authority for maintenance of the system:

2 U.S.C. 432(e), 434, 437b(a)(1), and 438(a)(4).

Purpose(s):

The information contained in the records maintained in this system is used to inform the public of the amounts raised and spent by authorized committees of candidates for Federal office and other Federal political committees as well as the sources from which the amounts are raised and the recipients of the amounts spent; also, to verify compliance with the Federal Election Campaign Act. The Commission is required to make this information public pursuant to 2 U.S.C. 438(a)(4).

Routine uses of records maintained in the system, including categories of users and the purposes of such uses:

None involving nonpublic information. All records in this system are public pursuant to 2 U.S.C. 438(a)(4).

Disclosure to consumer reporting agencies:

None.

Policies and practices for storing, retrieving, accessing, retaining, and disposing of records in the system:

Storage:

Paper records, microfilm, electronic format on agency computer networks, and on the Internet at the FEC's web page.

Retrievability:

Paper and microfilm records are retrievable by candidate name, candidate identification (ID) number, committee name, committee ID number, or by the State in which candidate seeks election; electronic records are retrievable by candidate name, candidate ID number, committee name, committee ID number, or by the State or district in which the candidate seeks election.

All electronic searches may be conducted by any member of the public using the Commission's Web site.

Safeguards:

Original copies of records in this system are located in locked filing cabinets or are maintained on password protected agency computer networks. All electronic records are protected from unauthorized access through appropriate administrative, physical, and technical safeguards.

Retention and disposal:

Reports are preserved for a 10-year period except that reports relating solely to candidates for the House of Representative are preserved for 5 years from the date of receipt. Microfilm and electronic records are maintained and disposed of in accordance with FEC records control schedules.

System manager(s) and address:

Assistant Staff Director for Disclosure, Federal Election Commission, 999 E Street, NW., Washington, DC 20463, (202/694-1120).

Notification procedure:

A request for notification of the existence of records may be made in person or in writing to the Assistant Staff Director for Disclosure, Federal Election Commission, 999 E Street, NW., Washington, DC 20463. For additional information, refer to the Commission's access regulations at 11 CFR parts 1.1-1.5, 41 FR 43064 (1976).

Record access procedures:

An individual interested in gaining access to a record pertaining to him or her may make a request in person or in writing to the Assistant Staff Director for Disclosure, Federal Election Commission at the following address: 999 E Street, NW., Washington, DC 20463. For additional information, refer to the Commission's access regulations at 11 CFR parts 1.1-1.5, 41 FR 43064 (1976).

Contesting record procedures:

Individuals interested in contesting the information contained in their records or the denial of access to such information should notify the Assistant Staff Director for Disclosure, Federal Election Commission at the following address: 999 E Street, NW., Washington, DC 20463. For additional information, refer to the Commission's regulations for contesting initial denials for access to or amendment of records, 11 CFR parts 1.7-1.9, 41 FR 43064 (1976).

Record source categories:

Candidate committee disclosure reports and designations filed with the FEC.

Exemptions claimed for the system:

None.

FEC 7

System name:

Certification for primary matching funds and general election campaign funds.

Security classification:

Sensitive but unclassified; some records are public.

System location:

Federal Election Commission, Audit Division, 999 E Street, NW., Washington, DC 20463.

Categories of records in the system:

Candidates for nomination or election to the Office of President of the United States and contributors whose contributions are matched under the Matching Payment Act.

Categories of records in the system:

Certification forms and supporting data requesting matching funds or election funds including the candidate agreement. May include the name, address, telephone number, e-mail address, employment information, political activity or affiliations and financial records of the candidates. May include the names, addresses, occupations, names of employers, and dates and amounts of contributions of contributors.

Authority for maintenance of the system:

26 U.S.C. 9003, 9006; 26 U.S.C. 9033, 9036, 9037.

Purpose(s):

To assist the Commission in facilitating the primary matching funds and general election campaign funds programs for Presidential primary candidates and nominees. Presidential candidates who seek matching funds must submit information about matchable contributions to the FEC for review. These files are available to the public and are placed on the FEC's Internet site. Before receiving matching funds, candidates must also provide a letter of agreement (candidate agreement) stating they accept the conditions for receiving matching grants.

Routine uses of records maintained in the system, including categories of users and the purposes of such uses:

These records and information contained in the records may be disclosed as follows:

1. To the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such records by the Department of Justice is deemed, after careful review, by the Federal Election Commission to be relevant and necessary to the litigation, provided, however, that in each case the agency determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Federal Election Commission determines that, after careful review, use of such records is relevant and necessary to the litigation, provided, however, that the agency determines that disclosure of the records is compatible with the purpose for which the records were collected.

3. To the news media or the general public, factual information the disclosure of which would be in the public interest and which would not constitute an unwarranted invasion of personal privacy. However, under 2 U.S.C. 438a(4), any information copied from financial disclosure reports shall not be sold or utilized by any person for the purposes of soliciting contributions or for any commercial purpose.

4. To appropriate Federal, foreign, State, local, tribal, or other public authorities responsible for enforcing, investigating or prosecuting civil or criminal violations of law or as necessary to facilitate parallel investigations or to assist the other agency with the investigation or prosecution of a matter within its jurisdiction.

5. To Federal, State, and local law enforcement agencies and private security contractors, as appropriate, to enable them to protect the safety of Commission employees and visitors and the security of the Commission's workplace; and to assist investigations or prosecutions with respect to activities that affect such safety and security or activities that disrupt the operation of Commission facilities.

6. To a congressional office from the record of an individual in response to an inquiry from the congressional office made at the written request of the individual about whom the record is maintained (e.g., a constituent request). Disclosure will not be made until the congressional office has furnished appropriate documentation of the individual's request, such as a copy of the individual's written request.

7. To the National Archives and Records Administration or to the General Services Administration for records management inspections conducted under 44 U.S.C. 2903 and 2904.

8. To contractors (including employees of contractors), grantees, experts, or volunteers who have been engaged to assist the agency in the performance of a contract, service, grant, cooperative agreement, or other activity related to this system of records and who need to have access to the records in order to perform the activity for the agency. Recipients shall be required to comply with the requirements of the Privacy Act of 1974, as amended, 5 U.S.C. 552a.

9. To the Department of Treasury in connection with issuing matching funds to qualified recipients.

10. To appropriate agencies, entities, and persons when (1) the agency suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

Disclosure to consumer reporting agencies:

Pursuant to 5 U.S.C. 552a(b)(12), records can be disclosed to consumer reporting agencies as they are defined in the Fair Credit Reporting Act.

Policies and practices for storing, retrieving, accessing, retaining, and disposing of records in the system:

Storage:

Paper records; CD-Rom storage; electronic format on agency computer networks.

Retrievability:

Indexed and retrievable by name of candidate, committee ID, and candidate ID. Matching funds submissions are retrievable by members of the public on a page on the agency's public Web site.

Safeguards:

Paper records and CD-ROMs are kept in locked file cabinets in limited access areas under personal surveillance during working hours and in locked rooms at other times. All electronic records are protected from unauthorized access through appropriate administrative, physical, and technical safeguards. These safeguards include the application of appropriate access control mechanisms to ensure the confidentiality, integrity, and availability of those records and that they are only accessed by those with a need to know and dictated by their official duties.

Retention and disposal:

Records are maintained and disposed of in accordance with FEC records control schedules.

System manager(s) and address:

Assistant Staff Director for Audit, Federal Election Commission, 999 E Street, NW., Washington, DC 20463, (202/694-3440).

Notification procedure:

A request for notification of the existence of records may be made in person or in writing to the Assistant Staff Director for Audit, Federal Election Commission, 999 E Street, NW., Washington, DC 20463. For additional information, refer to the Commission's access regulations at 11 CFR parts 1.1-1.5, 41 FR 43064 (1976).

Record access procedures:

An individual interested in gaining access to a record pertaining to him or her may make a request in person or in writing to the Assistant Staff Director for Audit, Federal Election Commission at the following address: 999 E Street, NW., Washington, DC 20463. For additional information, refer to the Commission's access regulations at 11 CFR parts 1.1-1.5, 41 FR 43064 (1976).

Contesting record procedures:

Individuals interested in contesting the information contained in their records or the denial of access to such information should notify the Assistant Staff Director for Audit, Federal Election Commission at the following address: 999 E Street, NW., Washington, DC 20463. For additional information, refer to the Commission's regulations for contesting initial denials for access to or amendment of records, 11 CFR parts 1.7-1.9, 41 FR 43064 (1976).

Record source categories:

Certification reports and candidate agreements filed with the Commission.

Exemptions claimed for the system:

None.

FEC 8

System name:

Payroll records.

Security classification:

Sensitive but unclassified.

System location:

Federal Election Commission, Finance Division, 999 E Street, NW., Washington, DC 20463 and on a computer system located in the Department of Agriculture's National Finance Center, New Orleans, Louisiana.

Categories of individuals covered by the system:

All FEC employees.

Categories of records in the system:

Varied payroll records, including, among other documents, time and attendance cards; payment vouchers; comprehensive listing of employees; health and other benefit records; requests for deductions; tax forms; W-2 forms; headcount data; overtime requests; leave data; and retirement records. May include names, addresses, telephone numbers, marital status, date of birth, e-mail addresses, employment and education history, health and financial information.

Authority for maintenance of the system:

31 U.S.C., generally. Also, 2 U.S.C. 437c(f).

Purpose(s):

Records in this system are used by the Commission to maintain adequate payroll information on Commission employees, to measure employee performance, record time and attendance, and file reports with appropriate authorities.

Routine uses of records maintained in the system, including categories of users and the purposes of such uses:

These records and information contained in the records may be disclosed as follows:

1. To the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such records by the Department of Justice is deemed, after careful review, by the Federal Election Commission to be relevant and necessary to the litigation, provided, however, that in each case the agency determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Federal Election Commission determines that, after careful review, use of such records is relevant and necessary to the litigation, provided, however, that the agency determines that disclosure of the records is compatible with the purpose for which the records were collected.

3. To appropriate Federal, foreign, State, local, tribal, or other public authorities responsible for enforcing, investigating or prosecuting civil or criminal violations of law or as necessary to facilitate parallel investigations or to assist the other agency with the investigation or prosecution of a matter within its jurisdiction.

4. To a Federal agency, in response to its request, in connection with the hiring or retention of an employee, the issuance of a security clearance, the reporting of an investigation of an employee, the letting of a contract, or the issuance of a license, grant or other benefit by the requesting agency, to the extent that the information is relevant and necessary to the requesting agency's decision in the matter.

5. To Federal, State, and local law enforcement agencies and private security contractors, as appropriate, to enable them to protect the safety of Commission employees and visitors and the security of the Commission's workplace; and to assist investigations or prosecutions with respect to activities that affect such safety and security or activities that disrupt the operation of Commission facilities.

6. To a congressional office from the record of an individual in response to an inquiry from the congressional office made at the written request of the individual about whom the record is maintained (e.g., a constituent request). Disclosure will not be made until the congressional office has furnished appropriate documentation of the individual's request, such as a copy of the individual's written request.

7. To the National Archives and Records Administration or to the General Services Administration for records management inspections conducted under 44 U.S.C. 2903 and 2904.

8. To contractors (including employees of contractors), grantees, experts, or volunteers who have been engaged to assist the agency in the performance of a contract, service, grant, cooperative agreement, or other activity related to this system of records and who need to have access to the records in order to perform the activity for the agency.

Recipients shall be required to comply with the requirements of the Privacy Act of 1974, as amended, 5 U.S.C. 552a.

9. To an authorized appeal grievance examiner, formal complaints examiner, equal employment opportunity investigator, arbitrator or other person properly engaged in investigation or settlement of an administrative grievance, complaint, claim, or appeal filed by an employee or former employee, but only to the extent that information is relevant and necessary to the proceeding. Agencies that may obtain information under this routine use include, but are not limited to, the Office of Personnel Management, Office of Special Counsel, Merit Systems Protection Board, Federal Labor Relations Authority, Equal Employment Opportunity Commission, and Office of Government Ethics.

10. To the Office of Personnel Management in accordance with the agency's responsibility for evaluation and oversight of Federal personnel management.

11. To officials of labor organizations when relevant and necessary to their duties of exclusive representation concerning personnel policies, practices, and matters affecting work conditions.

12. To agencies, offices, or establishments of the executive, legislative, or judicial branch of the Federal or State government after receipt of request and where the records or information is relevant and necessary to a decision on an employee's disciplinary or other administrative action (excluding a decision on hiring). The agency will take reasonable steps to ensure that the records are timely, relevant, accurate, and complete enough to assure fairness to the employee affected by the disciplinary or administrative action.

13. To debt collection contractors to collect debts owed to the Government, as authorized under the Debt Collection Act of 1982, 31 U.S.C. 3718, and subject to the Privacy Act safeguards.

14. To the Office of Child Support Enforcement Administration for Children and Families, Department of Health and Human Services Federal Parent Locator Service (FPLS) and Federal Tax Offset System for use in locating individuals and identifying their income sources to establish paternity, establish and modify orders of support and for enforcement action.

15. To the Office of Child Support Enforcement for release to the Social Security Administration for verifying Social Security Numbers in connection with the operation of the FPLS by the Office of Child Support Enforcement.

16. To the Office of Child Support Enforcement for release to the Department of Treasury for purposes of administering the Earned Income Tax Credit Program (Section 32, Internal Revenue Code of 1986) and verifying a claim with respect to employment in a tax return.

17. To officers and employees of a Federal agency for purposes of an audit.

18. To the General Accounting Office for audits; to the Internal Revenue Service for investigation; and to individual representatives, pursuant to a power of attorney.

19. To audit firms or other contractors conducting audits or studies of FEC's financial or computer systems or processes in accordance with the Accountability of Tax Dollars Act of 2002, other laws, or special studies requested by management.

20. To a State and city, or other local jurisdiction that is authorized to tax the employee's compensation, a copy of an employee's Department of Treasury form W-2, wage and tax statement. The record will be provided in accordance with a withholding agreement between the State, city, or other local jurisdiction and the Department of the Treasury, pursuant to 5 U.S.C. 5516, 5517, or 5520, or, in the absence thereof, in response to a written request from an appropriate official of the taxing jurisdiction to the Accounting Officer, Federal Election Commission, Washington, DC 20463. The request must include a copy of the applicable statute or ordinance authorizing the taxation of compensation and should indicate whether the authority of the jurisdiction to tax the employee is based on place of residence, place of employment, or both.

a. Pursuant to a withholding agreement between a city and the Department of Treasury (5 U.S.C. 5520), copies of executed city tax withholding certificates shall be furnished to the city in response to a written request from an appropriate city official to the Accounting Officer.

b. In the absence of a withholding agreement, the Social Security Number will be furnished only to a taxing jurisdiction that has furnished this agency with evidence of its independent authority to compel disclosure of the Social Security Number, in accordance with Section 7 of the Privacy Act.

21. To the Department of Agriculture, National Finance Center, to credit Thrift Savings Plan deductions and loan payments to employee accounts.

22. To the Department of Treasury to issue checks, make payments, make electronic funds transfers, and issue U.S. Savings Bonds.

23. To the Department of Labor in connection with a claim filed by an employee for compensation due to a job connected injury or illness.

24. To the Internal Revenue Service; Social Security Administration; and State and local tax authorities in connection with the withholding of employment taxes.

25. To the Combined Federal Campaign in connection with payroll deductions for charitable contributions.

26. To State Unemployment Offices in connection with a claim filed by former employees for unemployment benefits.

27. To the Office of Personnel Management and to Health Benefit carriers in connection with enrollment and payroll deductions.

28. To the Office of Personnel Management in connection with employee retirement and life insurance deductions.

29. To the Office of Management and Budget and Department of the Treasury to provide required reports on financial management responsibilities.

30. To provide information as necessary to other Federal, State, local or foreign agencies conducting computer matching programs to help eliminate fraud and abuse and to detect unauthorized overpayments made to individuals. When disclosures are made as part of computer matching programs, FEC will comply with the Computer Matching and Privacy Protection Act of 1988.

31. To the Internal Revenue Service in connection with withholdings for tax levies.

32. To the General Services Administration, which has been engaged to assist the agency in processing and administering certain functions related to this system of records.

33. To appropriate agencies, entities, and persons when (1) the agency suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

Disclosure to consumer reporting agencies:

None.

Policies and practices for storing, retrieving, accessing, retaining, and disposing of records in the system:

Storage:

Paper records and electronic format on agency computer networks. Primary computer files stored on server hard-drives with tape backup for all records located at 999 E Street, NW., Washington, DC and at the National Finance Center in New Orleans, Louisiana.

Retrievability:

Records are accessible via last name or Social Security Number. Employees have online access to portions of their own files via their last name and/or Social Security Number and/or PIN through the National Finance Center Web site.

Safeguards:

Paper Records are kept in locked file cabinets located in a cipher-locked room. All electronic records are protected from unauthorized access through appropriate administrative, physical, and technical safeguards. These safeguards include the application of appropriate access control mechanisms to ensure the confidentiality, integrity, and availability of those records and that they are only accessed by those with a need to know and dictated by their official duties.

Retention and disposal:

Disposition of records shall be in accordance with the HB GSA Records Maintenance and Disposition System (OAD P 1820.2).

System manager(s) and address:

Accounting Officer, Office of the Chief Financial Officer, Federal Election Commission, 999 E Street, NW., Washington, DC 20463, (202/694-1230).

Notification procedure:

A request for notification of the existence of records may be made in person or in writing to the Accounting Officer, Office of the Chief Financial Officer, Federal Election Commission, 999 E Street, NW., Washington, DC 20463. For additional information, refer to the Commission's access regulations at 11 CFR parts 1.1-1.5, 41 FR 43064 (1976).

Record access procedures:

An individual interested in gaining access to a record pertaining to him or her may make a request in person or in writing to the Accounting Officer, Office of the Chief Financial Officer, Federal Election Commission at the following address: 999 E Street, NW., Washington, DC 20463. For additional information, refer to the Commission's access regulations at 11 CFR parts 1.1-1.5, 41 FR 43064 (1976).

Contesting record procedures:

Individuals interested in contesting the information contained in their records or the denial of access to such information should notify the Accounting Officer, Office of the Chief Financial Officer, Federal Election Commission at the following address: 999 E Street, NW., Washington DC, 20463. For additional information, refer to the Commission's regulations for contesting initial denials for access to or amendment of records, 11 CFR parts 1.7-1.9, 41 FR 43064 (1976).

Record source categories:

The subject individual; the Federal Election Commission.

Exemptions claimed for the system:

None.

FEC 9

System name:

Litigation Actions.

Security classification:

Sensitive but unclassified; some material may be made public as part of court filings or other judicial proceedings.

System location:

Federal Election Commission, Office of General Counsel, Litigation Division, 999 E Street, NW., Washington, DC 20463.

Categories of individuals covered by the system:

Individuals, and their counsel, who have brought judicial action against the Commission and individuals, and their counsel, against whom the Commission has brought judicial action pursuant to 2 U.S.C. 437g or 437h, 26 U.S.C. 9011 or 9041, 5 U.S.C. 552 or any other statute; witnesses, and their counsel; individuals or organizations filing amicus briefs; current and former FEC staff assigned to handle the matter.

Categories of records in the system:

All documents incident to a lawsuit, including pleadings, discovery materials, motions, briefs, inter-office communications, memoranda, orders, and correspondence with opposing counsel, joint counsel or the Department of Justice. May include the name, address, telephone number, e-mail address, employment information, political activity or affiliations and financial records of any individual covered by the system.

Authority for maintenance of the system:

2 U.S.C. 437g(a)(6), 437g(a)(8), 437g(a)(11), and 437h; Bipartisan Campaign Reform Act of 2002, Pub. L. 107-155, 116 Stat. 81, sec. 403.

Purpose(s):

The Federal Election Campaign Act of 1971, as amended, authorizes the FEC to prosecute and defend certain litigation in the Federal courts. See, e.g., 2 U.S.C. 437g(a). The FEC gathers or creates the records in this system in the course of prosecuting or defending such litigation. These records are maintained for historical purposes and for consultation as precedent in subsequent judicial or administrative actions.

Routine uses of records maintained in the system, including categories of users and the purposes of such uses:

These records and information contained in the records may be disclosed as follows:

1. To the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such records by the Department of Justice is deemed, after careful review, by the Federal Election Commission to be relevant and necessary to the litigation, provided, however, that in each case the agency determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Federal Election Commission determines that, after careful review, use of such records is relevant and necessary to the litigation, provided, however, that the agency determines that disclosure of the records is compatible with the purpose for which the records were collected.

3. To the news media or the general public, factual information the disclosure of which would be in the public interest and which would not constitute an unwarranted invasion of personal privacy.

4. To appropriate Federal, foreign, State, local, tribal, or other public authorities responsible for enforcing, investigating or prosecuting civil or criminal violations of law or as necessary to facilitate parallel investigations or to assist the other agency with the investigation or prosecution of a matter within its jurisdiction.

5. To Federal, State, and local law enforcement agencies and private security contractors, as appropriate, to enable them to protect the safety of Commission employees and visitors and the security of the Commission's workplace; and to assist investigations or prosecutions with respect to activities that affect such safety and security or activities that disrupt the operation of Commission facilities.

6. To any source or potential source from which information is requested in the course of an investigation concerning the retention of an employee or other personnel action (other than hiring), or the retention of a security clearance, contract, grant, license, or other benefit, to the extent necessary to identify the individual, inform the source of the nature and purpose of the investigation, and to identify the type of information requested.

7. To a Federal, State, local, foreign, tribal or other public authority of the fact that this system of records contains information relevant to the retention of an employee, the retention of a security clearance, the letting of a contract, or the issuance or retention of a license, grant, or other benefit. The other agency or licensing organization may then make a request supported by written consent of the individual for the entire record if it so chooses. No disclosure will be made unless the information has been determined to be sufficiently reliable to support a referral to another office within the agency or to another Federal agency for criminal, civil, administrative, personnel, or regulatory action.

8. To the National Archives and Records Administration or to the General Services Administration for records management inspections conducted under 44 U.S.C. 2903 and 2904.

9. To contractors (including employees of contractors), grantees, experts, or volunteers who have been engaged to assist the agency in the performance of a contract, service, grant, cooperative agreement, or other activity related to this system of records and who need to have access to the records in order to perform the activity for the agency. Recipients shall be required to comply with the requirements of the Privacy Act of 1974, as amended, 5 U.S.C. 552a.

10. To an authorized appeal grievance examiner, formal complaints examiner, equal employment opportunity investigator, arbitrator or other person properly engaged in investigation or settlement of an administrative grievance, complaint, claim, or appeal filed by an employee or former employee, but only to the extent that information is relevant and necessary to the proceeding. Agencies that may obtain information under this routine use include, but are not limited to, the Office of Personnel Management, Office of Special Counsel, Merit Systems Protection Board, Federal Labor Relations Authority, Equal Employment Opportunity Commission, and Office of Government Ethics.

11. To officials of labor organizations when relevant and necessary to their duties of exclusive representation concerning personnel policies, practices, and matters affecting work conditions.

12. To agencies, offices, or establishments of the executive, legislative, or judicial branch of the Federal or State government after receipt of request and where the records or information is relevant and necessary to a decision on an employee's disciplinary or other administrative action (excluding a decision on hiring). The agency will take reasonable steps to ensure that the records are timely, relevant, accurate, and complete enough to assure fairness to the employee affected by the disciplinary or administrative action.

13. To appropriate agencies, entities, and persons when (1) the agency suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

Disclosure to consumer reporting agencies:

None.

Policies and practices for storing, retrieving, accessing, retaining, and disposing of records in the system:

Storage:

Paper record; microfilm; electronic form on agency computer networks or other electronic recording media.

Retrievability:

Microfilm and paper records are indexed by name of party litigant and, as applicable, by microfilm roll and frame number.

Electronic records may be retrieved using the agency computer network and shared drawers, Case Management System (CMS), LSI Imaging system, Docs open, DVDs, and Concordance databases.

Safeguards:

Access to the records is limited to employees with a need to know the information to conduct civil litigation on behalf of the agency or to ensure legal consistency in other proceedings.

Microfilm and paper records are kept in locked filing cabinets or in limited access areas under personal surveillance during working hours, and in locked rooms at other times.

All electronic records are protected from unauthorized access through appropriate administrative, physical, and technical safeguards. These safeguards include the application of appropriate access control mechanisms to ensure the confidentiality, integrity, and availability of those records and that they are only accessed by those with a need to know and dictated by their official duties.

Retention and disposal:

Records are maintained and disposed of in accordance with FEC records control schedules.

System manager(s) and address:

Associate General Counsel for Litigation, Office of General Counsel, Federal Election Commission, 999 E Street, NW., Washington, DC 20463, (202/694-1650).

Notification procedure:

A request for notification of the existence of records may be made in person or in writing to the Associate General Counsel for Litigation, Office of General Counsel, 999 E Street, NW., Washington, DC 20463. For additional information, refer to the Commission's access regulations at 11 CFR parts 1.1-1.5, 41 FR 43064 (1976).

Record access procedures:

An individual interested in gaining access to a record pertaining to him or her may make a request in person or in writing to the Associate General Counsel for Litigation, Office of General Counsel, Federal Election Commission at the following address: 999 E Street, NW., Washington, DC 20463. For additional information, refer to the Commission's access regulations at 11 CFR parts 1.1-1.5, 41 FR 43064 (1976).

Contesting record procedures:

Individuals interested in contesting the information contained in their records or the denial of access to such information should notify the Associate General Counsel for Litigation, Office of General Counsel, Federal Election Commission at the following address: 999 E Street, NW., Washington, DC 20463. For additional information, refer to the Commission's regulations for contesting initial denials for access to or amendment of records, 11 CFR parts 1.7-1.9, 41 FR 43064 (1976).

Record source categories:

Information is obtained from a variety of sources, including but not limited to individual party litigants and counsel, witnesses, third parties, other agencies, court personnel and the Federal Election Commission.

Exemptions claimed for the system:

Records in this system are exempt from individual access under 5 U.S.C. 552a(d)(5).

FEC 10

System name:

Letter File. Public Communications.

Security classification:

Sensitive but unclassified.

System location:

Federal Election Commission, Information Division, 999 E Street, NW., Washington, DC 20463.

Categories of individuals covered by the system:

Individuals who have written to the FEC requesting answers to specific questions related to the Federal Election Campaign Act, as amended; current and former FEC staff assigned to handle requests for information.

Categories of records in the system:

Requests for information and FEC responses thereto. May include name, address, telephone number, e-mail address of the requestors.

Authority for maintenance of the system:

2 U.S.C. 438(a).

Purpose(s):

Commission staff maintain these records to respond to and manage inquiries directed to the Commission. The documents are also retained for use as a reference in subsequent requests for information and to keep track of the types of inquiries received by the Commission.

Routine uses of records maintained in the system, including categories of users and the purposes of such uses:

These records and information contained in the records may be disclosed as follows:

1. To the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such records by the Department of Justice is deemed, after careful review, by the Federal Election Commission to be relevant and necessary to the litigation, provided, however, that in each case the agency determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Federal Election Commission determines that, after careful review, use of such records is relevant and necessary to the litigation, provided, however, that the agency determines that disclosure of the records is compatible with the purpose for which the records were collected.

3. To appropriate Federal, foreign, State, local, tribal, or other public authorities responsible for enforcing, investigating or prosecuting civil or criminal violations of law or as necessary to facilitate parallel investigations or to assist the other agency with the investigation or prosecution of a matter within its jurisdiction.

4. To Federal, State, and local law enforcement agencies and private security contractors, as appropriate, to enable them to protect the safety of Commission employees and visitors and the security of the Commission's workplace; and to assist investigations or prosecutions with respect to activities that affect such safety and security or activities that disrupt the operation of Commission facilities.

5. To a congressional office from the record of an individual in response to an inquiry from the congressional office made at the written request of the individual about whom the record is maintained (e.g., a constituent request). Disclosure will not be made until the congressional office has furnished appropriate documentation of the individual's request, such as a copy of the individual's written request.

6. To the National Archives and Records Administration or to the General Services Administration for records management inspections conducted under 44 U.S.C. 2903 and 2904.

7. To contractors (including employees of contractors), grantees, experts, or volunteers who have been engaged to assist the agency in the performance of a contract, service, grant, cooperative agreement, or other activity related to this system of records and who need to have access to the records in order to perform the activity for the agency. Recipients shall be required to comply with the requirements of the Privacy Act of 1974, as amended, 5 U.S.C. 552a.

8. To an authorized appeal grievance examiner, formal complaints examiner, equal employment opportunity investigator, arbitrator or other person properly engaged in investigation or settlement of an administrative grievance, complaint, claim, or appeal filed by an employee or former employee, but only to the extent that information is relevant and necessary to the proceeding. Agencies that may obtain information under this routine use include, but are not limited to, the Office of Personnel Management, Office of Special Counsel, Merit Systems Protection Board, Federal Labor Relations Authority, Equal Employment Opportunity Commission, and Office of Government Ethics.

9. To the Office of Personnel Management for matters concerned with oversight activities (necessary for the Office of Personnel Management to carry out its legally-authorized Government-wide personnel management programs and functions) and in their role as an investigation agency.

10. To officials of labor organizations when relevant and necessary to their duties of exclusive representation concerning personnel policies, practices, and matters affecting work conditions.

11. To agencies, offices, or establishments of the executive, legislative, or judicial branch of the Federal or State government after receipt of request and where the records or information is relevant and necessary to a decision on an employee's disciplinary or other administrative action (excluding a decision on hiring). The agency will take reasonable steps to ensure that the records are timely, relevant, accurate, and complete enough to assure fairness to the employee affected by the disciplinary or administrative action.

12. To appropriate agencies, entities, and persons when (1) the agency suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

Disclosure to consumer reporting agencies:

None.

Policies and practices for storing, retrieving, accessing, retaining, and disposing of records in the system:

Storage:

Records are maintained in electronic form on agency computer networks and as paper records.

Safeguards:

Records are under the custody of designated employees of the Commission. Access to the records is limited to employees requiring access. All electronic records are protected from unauthorized access through appropriate administrative, physical, and technical safeguards. These safeguards include the application of appropriate access control mechanisms to ensure the confidentiality, integrity, and availability of those records and that they are only accessed by those with a need to know and dictated by their official duties.

Retrievability:

Records may be retrieved by name of the requester.

Retention and disposal:

Retained in-house for one year; shipped afterward to general storage in accordance with FEC records control schedules.

System manager(s) and address:

Assistant Staff Director for Information, Federal Election Commission, 999 E Street, NW., Washington, DC 20463, (202/694-1100).

Notification procedure:

A request for notification of the existence of records may be made in person or in writing to the Assistant Staff Director for Information, Federal Election Commission, 999 E Street, NW., Washington, DC 20463. For additional information, refer to the Commission's access regulations at 11 CFR parts 1.1-1.5, 41 FR 43064 (1976).

Record access procedures:

An individual interested in gaining access to a record pertaining to him or her may make a request in person or in writing to the Assistant Staff Director for Information, Federal Election Commission at the following address: 999 E Street, NW., Washington, DC 20463. For additional information, refer to the Commission's access regulations at 11 CFR parts 1.1-1.5, 41 FR 43064 (1976).

Contesting record procedures:

Individuals interested in contesting the information contained in their records or the denial of access to such information should notify the Assistant Staff Director for Information, Federal Election Commission at the following address: 999 E Street, NW., Washington, DC 20463. For additional information, refer to the Commission's regulations for contesting initial denials for access to or amendment of records, 11 CFR parts 1.7-1.9, 41 FR 43064 (1976).

Record source categories:

Individuals who submit requests for information to the Commission in writing.

Exemptions claimed for the system:

None.

FEC 11

System name:

Contributor Name Index System.

Security classification:

Public.

System location:

Federal Election Commission, Information Technology Division, 999 E Street, NW., Washington, DC 20463.

Categories of individuals covered by the system:

Individuals who have been listed on campaign finance reports as having given an aggregate amount in excess of $200 or more in a calendar year to a candidate for Federal office required to file reports of contributions and expenditures, sources of receipts and recipients of disbursements.

Categories of records in the system:

Names of contributors, City, State and zip code, occupation, employer, and contribution amount.

Authority for maintenance of the system:

2 U.S.C. 434 and 441a.

Purpose(s):

The information contained in this system of records is used to inform the public of the amounts raised and spent by candidates for Federal office, as well as the source from which the amounts are raised and the recipients of the amounts spent; also to verify compliance with the Federal Election Campaign Act.

Routine uses of records maintained in the system, including categories of users and the purposes of such uses:

None involving nonpublic information. All records in this system are public.

Disclosure to consumer reporting agencies:

None.

Policies and practices for storing, retrieving, accessing, retaining, and disposing of records in the system:

Storage:

Electronic format on agency computer networks on the Internet at the FEC's web page.

Retrievability:

Indexed by last name of contributor and by name of recipient committee. Retrieval may be accomplished by any member of the public using the Commission's Web site.

Safeguards:

All electronic records are protected from unauthorized access through appropriate administrative, physical, and technical safeguards. These safeguards include the application of appropriate access control mechanisms to ensure the confidentiality, integrity, and availability of those records and that they are only accessed by those with a need to know and dictated by their official duties.

Retention and disposal:

Records are maintained and disposed of in accordance with FEC records control schedules.

System manager(s) and address:

Deputy Staff Director/Chief Information Officer, Federal Election Commission, 999 E Street, NW., Washington, DC 20463, (202/694-1250).

Notification procedure:

A request for notification of the existence of records may be made in person or in writing to the Deputy Staff Director/Chief Information Officer, Federal Election Commission, 999 E Street, NW., Washington, DC 20463. For additional information, refer to the Commission's access regulations at 11 CFR parts 1.1-1.5, 41 FR 43064 (1976).

Record access procedures:

An individual interested in gaining access to a record pertaining to him or her may make a request in person or in writing to the Deputy Staff Director/Chief Information Officer, Federal Election Commission at the following address: 999 E Street, NW., Washington, DC 20463. For additional information, refer to the Commission's access regulations at 11 CFR parts 1.1-1.5, 41 FR 43064 (1976).

Contesting record procedures:

Individuals interested in contesting the information contained in their records or the denial of access to such information should notify the Deputy Staff Director/Chief Information Officer, Federal Election Commission at the following address: 999 E Street, NW., Washington, DC 20463. For additional information, refer to the Commission's regulations for contesting initial denials for access to or amendment of records, 11 CFR parts 1.7-1.9, 41 FR 43064 (1976).

Record source categories:

Individual contributors, candidate and political committees.

Exemptions claimed for the system:

None.

FEC 12

System name:

Inspector General Investigative Files.

Security classification:

Sensitive but unclassified.

System location:

Federal Election Commission, Office of the Inspector General (OIG), 999 E Street, NW., Washington, DC 20463.

Categories of individuals covered by the system:

Individuals who are the subjects of complaints relating to the programs and operations of the Commission. Subjects include, but are not limited to, current and former FEC employees; current and former employees of contractors and subcontractors in their personal capacity, where applicable; and other persons whose actions affect the FEC, its programs or operations.

Categories of records in the system:

Complaints, referrals from other agencies, correspondence, investigative notes, interviews, statements from witnesses, transcripts taken during investigation, affidavits, copies of all subpoenas issued and responses thereto, interrogatories and responses thereto, reports, internal staff memoranda, staff working papers and other documents and records or copies obtained or relating to complaints and investigations. May include the name, address, telephone number, e-mail address, employment information, and financial records of the subjects.

Authority for maintenance of the system:

Inspector General Act Amendments of 1988, Pub. L. 100-504, amending the Inspector General Act of 1978, Pub. L. 95-452, 5 U.S.C. app. 3.

Purpose(s):

These records are used to document the conduct and outcome of inquiries, complaints, and investigations concerning allegations of fraud, waste, and abuse that affect the FEC. The information is used to report the results of investigations to FEC management, contractors, prosecutors, law enforcement agencies, Congress, and others for an action deemed appropriate. These records are used also to retain sufficient information to fulfill reporting requirements and to maintain records related to the OIG's activities.

Routine uses of records maintained in the system, including categories of users and the purposes of such uses:

These records and information contained in the records may be disclosed as follows:

1. To the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such records by the Department of Justice is deemed by the Inspector General, after careful review, to be relevant and necessary to the litigation, provided, however, that in each case the Inspector General determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Inspector General determines that, after careful review, the use of such records is relevant and necessary to the litigation, provided, however, that the Inspector General determines that disclosure of the records is compatible with the purpose for which the records were collected.

3. To the appropriate Federal, foreign, State, local, tribal, or other public authority responsible for enforcing, investigating or prosecuting such violation or charged with enforcing or implementing the statute, rule, regulation, or order issued pursuant thereto, when information indicates a violation or potential violation of law, whether civil, criminal or regulatory in nature, and whether arising by general statute or particular program statute, or by regulation, rule, or order issued pursuant thereto, if the information disclosed is relevant to any enforcement, regulatory, investigative or prosecutorial responsibility of the receiving entity.

4. To any source or potential source from which information is requested in the course of an investigation concerning the retention of an employee or other personnel action (other than hiring), or the retention of a security clearance, contract, grant, license, or other benefit, to the extent necessary to identify the individual, inform the source of the nature and purpose of the investigation, and to identify the type of information requested.

5. To a Federal, State, local, foreign, tribal or other public authority of the fact that this system of records contains information relevant to the retention of an employee, the retention of a security clearance, the letting of a contract, or the issuance or retention of a license, grant, or other benefit. The other agency or licensing organization may then make a request supported by written consent of the individual for the entire record if it so chooses. No disclosure will be made unless the information has been determined to be sufficiently reliable to support a referral to another office within the agency or to another Federal agency for criminal, civil, administrative, personnel, or regulatory action.

6. To the White House in response to an inquiry made at the written request of the individual about whom the record is maintained. Disclosure will not be made until the White House has furnished appropriate documentation of the individual's request, such as a copy of the individual's written request.

7. To a congressional office from the record of an individual in response to an inquiry from the congressional office made at the written request of the individual about whom the record is maintained (e.g., a constituent request). Disclosure will not be made until the congressional office has furnished appropriate documentation of the individual's request, such as a copy of the individual's written request.

8. To the National Archives and Records Administration or to the General Services Administration for records management inspections conducted under 44 U.S.C. 2903 and 2904.

9. To agency or OIG contractors (including employees of contractors), grantees, experts, or volunteers who have been engaged to assist the agency or OIG in the performance of a contract, service, grant, cooperative agreement, or other activity related to this system of records and who need to have access to the records in order to perform the activity for the agency or OIG. Recipients shall be required to comply with the requirements of the Privacy Act of 1974, as amended, 5 U.S.C. 552a.

10. To an authorized appeal grievance examiner, formal complaints examiner, equal employment opportunity investigator, arbitrator or other person properly engaged in investigation or settlement of an administrative grievance, complaint, claim, or appeal filed by an employee or former employee, but only to the extent that information is relevant and necessary to the proceeding. Agencies that may obtain information under this routine use include, but are not limited to, the Office of Personnel Management, Office of Special Counsel, Merit Systems Protection Board, Federal Labor Relations Authority, Equal Employment Opportunity Commission, and Office of Government Ethics.

11. To the Office of Personnel Management for matters concerned with oversight activities (necessary for the Office of Personnel Management to carry out its legally-authorized Government-wide personnel management programs and functions) and in their role as an investigation agency.

12. To officials of labor organizations when relevant and necessary to their duties of exclusive representation concerning personnel policies, practices, and matters affecting work conditions.

13. To agencies, offices, or establishments of the executive, legislative, or judicial branch of the Federal or State government after receipt of request and where the records or information is relevant and necessary to a decision on an employee's disciplinary or other administrative action (excluding a decision on hiring). The agency will take reasonable steps to ensure that the records are timely, relevant, accurate, and complete enough to assure fairness to the employee affected by the disciplinary or administrative action.

14. To debt collection contractors to collect debts owed to the Government, as authorized under the Debt Collection Act of 1982, 31 U.S.C. 3718, and subject to the Privacy Act safeguards.

15. To officials who have been engaged to assist the Office of Inspector General in the conduct of inquiries, complaints, and investigations who need to have access to the records in order to perform the work. This disclosure category includes members of the President's Council on Integrity and Efficiency and the Executive Council on Integrity and Efficiency, and officials and administrative staff within their chain of command. Recipients shall be required to comply with the requirements of the Privacy Act.

16. Information may be disclosed to officials charged with the responsibility to conduct qualitative assessment reviews of internal safeguards and management procedures employed in investigative operations. This disclosure category includes members of the President's Council on Integrity and Efficiency, Executive Council on Integrity and Efficiency, and officials and administrative staff within their investigative chain of command, as well as authorized officials of the Department of Justice and the Federal Bureau of Investigation. Recipients shall be required to comply with the requirements of the Privacy Act.

17. To appropriate agencies, entities, and persons when (1) the agency suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

Disclosure to consumer reporting agencies:

We may disclose the record or information from this system, pursuant to 5 U.S.C. 552a(b)(12), to consumer reporting agencies as defined in the Fair Credit Reporting Act, 15 U.S.C. 1681a(f) or the Federal Claims Collection Act of 1966, as amended, 31 U.S.C. 3701(a)(3), in accordance with section 3711(f) of Title 31.

Policies and practices for storing, retrieving, accessing, retaining, and disposing of records in the system:

Storage:

Records are stored in both a paper and electronic format.

Retrievability:

The records may be retrieved by the name of the subject of the complaint/investigation or by a unique control number assigned to each complaint/investigation.

Safeguards:

The records are maintained in limited access areas within the building. Access is limited to Office of Inspector General employees whose official duties require access. The paper records and electronic information not stored on computers are maintained in lockable cabinets in a locked room. Information stored on computers is on a restricted access server located in a locked room. All electronic records are protected from unauthorized access through appropriate administrative, physical, and technical safeguards. These safeguards include the application of appropriate access control mechanisms to ensure the confidentiality, integrity, and availability of those records and that they are only accessed by those with a need to know and dictated by their official duties.

Retention and disposal:

These records will be maintained permanently until disposition authority is granted by the National Archives and Records Administration (NARA). Upon approval, the records will be retained in accordance with NARA's schedule and disposed of in a secure manner.

System manager(s) and address:

Inspector General, Federal Election Commission, 999 E Street, NW., Washington, DC 20463, (202/694-1015).

Notification procedure:

A request for notification of the existence of records may be made in person or in writing to the FEC Inspector General, 999 E Street, NW., Washington, DC 20463. For additional information, refer to the Commission's access regulations at 11 CFR parts 1.1-1.5, 41 FR 43064 (1976).

Record access procedures:

An individual interested in gaining access to a record pertaining to him or her may make a request in person or in writing to the FEC Inspector General at the following address: 999 E Street, NW., Washington, DC 20463. For additional information, refer to the Commission's access regulations at 11 CFR parts 1.1-1.5, 41 FR 43064 (1976).

Contesting record procedures:

Individuals interested in contesting the information contained in their records or the denial of access to such information should notify the FEC Inspector General at the following address: 999 E Street, NW., Washington, DC 20463. For additional information, refer to the Commission's regulations for contesting initial denials for access to or amendment of records, 11 CFR parts 1.7-1.9, 41 FR 43064 (1976).

Record source categories:

Complaints, subjects, third parties who have been requested to produce relevant information, referring agencies, and OIG personnel assigned to handle complaints/investigations.

Exemptions claimed for the system:

System exempt under 5 U.S.C. 552a(j)(2) and 5 U.S.C. 552a(k)(2).

See 11 CFR 1.14.

FEC 13

System name:

Travel Records of Employees.

Security classification:

Sensitive but unclassified.

System location:

Federal Election Commission, Administration Division, 999 E Street, NW., Washington, DC 20463.

Categories of individuals covered by the system:

All FEC employees who travel pursuant to authorized official agency business.

Categories of records in the system:

Travel authorizations; travel advance requests; E-travel profiles, and travel vouchers, including receipts for hotels, car rentals, meals, phone calls, mileage reimbursement and other allowable expenses. May include: Name, address, Social Security Number, telephone number, job title, grade salary level, security clearance, e-mail address, and government credit card information.

Authority for maintenance of the system:

Travel Expense Amendments Act of 1975 (Pub. L. 94-22).

Purpose(s):

To facilitate the timely reimbursement to employees for authorized and official travel for the FEC.

Routine uses of records maintained in the system, including categories of users and the purposes of such uses:

These records and information contained in the records may be disclosed as follows:

1. To the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such records by the Department of Justice is deemed, after careful review, by the Federal Election Commission to be relevant and necessary to the litigation, provided, however, that in each case the agency determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Federal Election Commission determines that, after careful review, use of such records is relevant and necessary to the litigation, provided, however, that the agency determines that disclosure of the records is compatible with the purpose for which the records were collected.

3. To appropriate Federal, foreign, State, local, tribal, or other public authorities responsible for enforcing, investigating or prosecuting civil or criminal violations of law or as necessary to facilitate parallel investigations or to assist the other agency with the investigation or prosecution of a matter within its jurisdiction.

4. To any source or potential source from which information is requested in the course of an investigation concerning the retention of an employee or other personnel action (other than hiring), or the retention of a security clearance, contract, grant, license, or other benefit, to the extent necessary to identify the individual, inform the source of the nature and purpose of the investigation, and to identify the type of information requested.

5. To a Federal, State, local, foreign, tribal or other public authority of the fact that this system of records contains information relevant to the retention of an employee, the retention of a security clearance, the letting of a contract, or the issuance or retention of a license, grant, or other benefit. The other agency or licensing organization may then make a request supported by written consent of the individual for the entire record if it so chooses. No disclosure will be made unless the information has been determined to be sufficiently reliable to support a referral to another office within the agency or to another Federal agency for criminal, civil, administrative, personnel, or regulatory action.

6. To Federal, State, and local law enforcement agencies and private security contractors, as appropriate, to enable them to protect the safety of Commission employees and visitors and the security of the Commission's workplace; and to assist investigations or prosecutions with respect to activities that affect such safety and security or activities that disrupt the operation of Commission facilities.

7. To a congressional office from the record of an individual in response to an inquiry from the congressional office made at the written request of the individual about whom the record is maintained (e.g., a constituent request). Disclosure will not be made until the congressional office has furnished appropriate documentation of the individual's request, such as a copy of the individual's written request.

8. To the National Archives and Records Administration or to the General Services Administration for records management inspections conducted under 44 U.S.C. 2903 and 2904.

9. To contractors (including employees of contractors), grantees, experts, or volunteers who have been engaged to assist the agency in the performance of a contract, service, grant, cooperative agreement, or other activity related to this system of records and who need to have access to the records in order to perform the activity for the agency. Recipients shall be required to comply with the requirements of the Privacy Act of 1974, as amended, 5 U.S.C. 552a.

10. To an authorized appeal grievance examiner, formal complaints examiner, equal employment opportunity investigator, arbitrator or other person properly engaged in investigation or settlement of an administrative grievance, complaint, claim, or appeal filed by an employee or former employee, but only to the extent that information is relevant and necessary to the proceeding. Agencies that may obtain information under this routine use include, but are not limited to, the Office of Personnel Management, Office of Special Counsel, Merit Systems Protection Board, Federal Labor Relations Authority, Equal Employment Opportunity Commission, and Office of Government Ethics.

11. To the Office of Personnel Management for matters concerned with oversight activities (necessary for the Office of Personnel Management to carry out its legally-authorized Government-wide personnel management programs and functions) and in their role as an investigation agency.

12. To officials of labor organizations when relevant and necessary to their duties of exclusive representation concerning personnel policies, practices, and matters affecting work conditions.

13. To agencies, offices, or establishments of the executive, legislative, or judicial branch of the Federal or State government after receipt of request and where the records or information is relevant and necessary to a decision on an employee's disciplinary or other administrative action (excluding a decision on hiring). The agency will take reasonable steps to ensure that the records are timely, relevant, accurate, and complete enough to assure fairness to the employee affected by the disciplinary or administrative action.

14. To the General Services Administration, which has been engaged to assist the agency in processing and administering certain functions related to this system of records.

15. To appropriate agencies, entities, and persons when (1) the agency suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

Disclosure to consumer reporting agencies:

None.

Policies and practices for storing, retrieving, accessing, retaining, and disposing of records in the system:

Storage:

Paper and electronic records.

Retrievability:

Indexed by employee name.

Safeguards:

Paper records are locked in file cabinets located in a cipher-locked room. All electronic records are protected from unauthorized access through appropriate administrative, physical, and technical safeguards. These safeguards include the application of appropriate access control mechanisms to ensure the confidentiality, integrity, and availability of those records and that they are only accessed by those with a need to know and dictated by their official duties.

Retention and disposal:

Travel records are maintained for seven years and then disposed of in accordance with FEC records control schedules.

System manager(s) and address:

Accounting Officer, Federal Election Commission, 999 E Street, NW., Washington, DC 20463, (202/694-1215).

Notification procedure:

A request for notification of the existence of records may be made in person or in writing to the Accounting Officer, Federal Election Commission, 999 E Street, NW., Washington, DC 20463. For additional information, refer to the Commission's access regulations at 11 CFR parts 1.1-1.5, 41 FR 43064 (1976).

Record access procedures:

An individual interested in gaining access to a record pertaining to him or her may make a request in person or in writing to the Accounting Officer, Federal Election Commission at the following address: 999 E Street, NW., Washington, DC 20463. For additional information, refer to the Commission's access regulations at 11 CFR parts 1.1-1.5, 41 FR 43064 (1976).

Contesting record procedures:

Individuals interested in contesting the information contained in their records or the denial of access to such information should notify the Accounting Officer, Federal Election Commission, at the following address: 999 E Street, NW., Washington, DC 20463. For additional information, refer to the Commission's regulations for contesting initial denials for access to or amendment of records, 11 CFR parts 1.7-1.9, 41 FR 43064 (1976).

Record source categories:

The subject individual; the Federal Election Commission.

Exemptions claimed for the system:

None.

FEC 14

System name:

Alternative Dispute Resolution Program.

Security classification:

Sensitive but unclassified; some material may be made public after cases are closed.

System location:

Federal Election Commission, Alternative Dispute Resolution Division, 999 E Street, NW., Washington, DC 20463.

Categories of individuals covered by the system:

Individuals who have filed complaints under the Federal Election Campaign Act (2 U.S.C. 431 et seq.) (complainants); individuals who are the subjects of complaints (respondents), including treasurers of respondent political committees, and counsel; candidates filing late or inaccurate reports, or no reports; witnesses and other individuals providing information with respect to a compliance matter; agency personnel, including attorneys and investigators.

Categories of records in the system:

Complaints, referrals, and responses thereto; documents generated in the course of internally-generated investigations of reports on file at the Commission; documents generated and received in the course of investigations of complaints and referrals, including depositions, interrogatories and responses thereto, other documentary evidence, and memoranda and notes created by agency personnel with respect to investigations. May include the name, address, telephone number, e-mail address, employment information, political activity and financial or tax records of the subjects.

Authority for maintenance of the system:

2 U.S.C. 437g(a)(1), (2), (4) and (5); 438(a)(7) and 438(b); 5 U.S.C. 572; 26 U.S.C. 9006 and 9038.

Purpose(s):

The Alternative Dispute Resolution (ADR) Office maintains active files on complaints forwarded to it from Commissioners, the Reports Analysis Division, the Audit Division, or the Office of General Counsel, including matters stemming from audits for cause. The Commission determines whether the case is appropriate for the ADR program. Resolutions reached in negotiations are submitted to the Commissioners for final approval. If a resolution is not reached in bilateral negotiation, the case may proceed to mediation. Upon the closing of the ADR matter, certain documents are placed on the public record.

Routine uses of records maintained in the system, including categories of users and the purposes of such uses:

These records and information contained in the records may be disclosed as follows:

1. To the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such records by the Department of Justice is deemed, after careful review, by the Federal Election Commission to be relevant and necessary to the litigation, provided, however, that in each case the agency determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Federal Election Commission determines that, after careful review, use of such records is relevant and necessary to the litigation, provided, however, that the agency determines that disclosure of the records is compatible with the purpose for which the records were collected.

3. Upon the closing of the ADR matter, to place certain documents on the public record of the agency, pursuant to guidance promulgated by the Commission. Personal information is redacted from documents before they are made public.

4. To appropriate Federal, foreign, State, local, tribal, or other public authorities responsible for enforcing, investigating or prosecuting civil or criminal violations of law or as necessary to facilitate parallel investigations or to assist the other agency with the investigation or prosecution of a matter within its jurisdiction.

5. To Federal, State, and local law enforcement agencies and private security contractors, as appropriate, to enable them to protect the safety of Commission employees and visitors and the security of the Commission's workplace; and to assist investigations or prosecutions with respect to activities that affect such safety and security or activities that disrupt the operation of Commission facilities.

6. To a congressional office from the record of an individual in response to an inquiry from the congressional office made at the written request of the individual about whom the record is maintained (e.g., a constituent request). Disclosure will not be made until the congressional office has furnished appropriate documentation of the individual's request, such as a copy of the individual's written request.

7. To the National Archives and Records Administration or to the General Services Administration for records management inspections conducted under 44 U.S.C. 2903 and 2904.

8. To contractors (including employees of contractors), grantees, experts, mediators, or volunteers who have been engaged to assist the agency in the performance of a contract, service, grant, cooperative agreement, or other activity related to this system of records and who need to have access to the records in order to perform the activity for the agency. Recipients shall be required to comply with the requirements of the Privacy Act of 1974, as amended, 5 U.S.C. 552a.

9. To an authorized appeal grievance examiner, formal complaints examiner, equal employment opportunity investigator, arbitrator or other person properly engaged in investigation or settlement of an administrative grievance, complaint, claim, or appeal filed by an employee or former employee, but only to the extent that information is relevant and necessary to the proceeding. Agencies that may obtain information under this routine use include, but are not limited to, the Office of Personnel Management, Office of Special Counsel, Merit Systems Protection Board, Federal Labor Relations Authority, Equal Employment Opportunity Commission, and Office of Government Ethics.

10. To the Office of Personnel Management for matters concerned with oversight activities (necessary for the Office of Personnel Management to carry out its legally-authorized Government-wide personnel management programs and functions) and in their role as an investigation agency.

11. To officials of labor organizations when relevant and necessary to their duties of exclusive representation concerning personnel policies, practices, and matters affecting work conditions.

12. To agencies, offices, or establishments of the executive, legislative, or judicial branch of the Federal or State government after receipt of request and where the records or information is relevant and necessary to a decision on an employee's disciplinary or other administrative action (excluding a decision on hiring). The agency will take reasonable steps to ensure that the records are timely, relevant, accurate, and complete enough to assure fairness to the employee affected by the disciplinary or administrative action.

13. To appropriate agencies, entities, and persons when (1) the agency suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

Disclosure to consumer reporting agencies:

None.

Policies and practices for storing, retrieving, accessing, retaining, and disposing of records in the system:

Storage:

Records are stored in both paper and electronic form and on microfilm.

Retrievability:

By ADR case number or name of the respondent.

Safeguards:

This system is kept in locked filing cabinets in limited access areas under personal surveillance during working hours, and in locked filing cabinets in locked rooms at other times. All electronic records are protected from unauthorized access through appropriate administrative, physical, and technical safeguards. These safeguards include the application of appropriate access control mechanisms to ensure the confidentiality, integrity, and availability of those records and that they are only accessed by those with a need to know and dictated by their official duties.

Retention and disposal:

Records are maintained and disposed of on accordance with FEC records control schedules.

System manager(s) and address:

Director, Alternative Dispute Resolution Office, Federal Election Commission, 999 E Street, NW., Washington, DC 20463, (202/219-1670).

Notification procedure:

A request for notification of the existence of records may be made in person or in writing to the Director, Alternative Dispute Resolution Office, Federal Election Commission, 999 E Street, NW., Washington, DC 20463. For additional information, refer to the Commission's access regulations at 11 CFR parts 1.1-1.5, 41 FR 43064 (1976).

Record access procedures:

An individual interested in gaining access to a record pertaining to him or her may make a request in person or in writing to the Director, Alternative Dispute Resolution at the following address: 999 E Street, NW., Washington, DC 20463. For additional information, refer to the Commission's access regulations at 11 CFR parts 1.1-1.5, 41 FR 43064 (1976).

Contesting record procedures:

Individuals interested in contesting the information contained in their records or the denial of access to such information should notify the Director, Alternative Dispute Resolution, Federal Election Commission at the following address: 999 E Street, NW., Washington, DC 20463. For additional information, refer to the Commission's regulations for contesting initial denials for access to or amendment of records, 11 CFR parts 1.7-1.9, 41 FR 43064 (1976).

Record source categories:

Complainants, respondents or committee treasurers, witnesses, and the Federal Election Commission.

Exemptions claimed for the system:

With respect to open investigations, the system is exempt pursuant to 5 U.S.C. 552a(k)(2). See 11 CFR part 1.14.

FEC 15

System name:

FEC Freedom of Information Act System.

Security classification:

Sensitive but unclassified; some material may become public under 5 U.S.C. 552.

System location:

Federal Election Commission, Office of General Counsel, General Law and Advice Division, 999 E Street, NW., Washington, DC 20463.

Categories of individuals covered by the system:

Persons requesting information from the Commission pursuant to provisions of the Freedom of Information Act (FOIA), 5 U.S.C. 552, and persons who are the subjects of FOIA requests.

Categories of records in the system:

Requests, response letters, appeals, appeal determinations and electronic tracking data.

Authority for maintenance of the system:

5 U.S.C. 552; 5 U.S.C. 301; Executive Order 13392.

Purpose(s):

To enable Commission staff to process FOIA requests and appeals; and to prepare an annual report to the Department of Justice on the Commission's FOIA activity.

Routine uses of records maintained in the system, including categories of users and the purposes of such uses:

These records and information contained in the records may be disclosed as follows:

1. To the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such records by the Department of Justice is deemed, after careful review, by the Federal Election Commission to be relevant and necessary to the litigation, provided, however, that in each case the agency determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Federal Election Commission determines that, after careful review, use of such records is relevant and necessary to the litigation, provided, however, that the agency determines that disclosure of the records is compatible with the purpose for which the records were collected.

3. To employees of other Federal agencies when a FOIA request must be referred to such an agency for response.

4. To appropriate Federal, foreign, State, local, tribal, or other public authorities responsible for enforcing, investigating or prosecuting civil or criminal violations of law or as necessary to facilitate parallel investigations or to assist the other agency with the investigation or prosecution of a matter within its jurisdiction.

5. To Federal, State, and local law enforcement agencies and private security contractors, as appropriate, to enable them to protect the safety of Commission employees and visitors and the security of the Commission's workplace; and to assist investigations or prosecutions with respect to activities that affect such safety and security or activities that disrupt the operation of Commission facilities.

6. To a congressional office from the record of an individual in response to an inquiry from the congressional office made at the written request of the individual about whom the record is maintained (e.g., a constituent request). Disclosure will not be made until the congressional office has furnished appropriate documentation of the individual's request, such as a copy of the individual's written request.

7. To the National Archives and Records Administration or to the General Services Administration for records management inspections conducted under 44 U.S.C. 2903 and 2904.

8. To contractors (including employees of contractors), grantees, experts, or volunteers who have been engaged to assist the agency in the performance of a contract, service, grant, cooperative agreement, or other activity related to this system of records and who need to have access to the records in order to perform the activity for the agency. Recipients shall be required to comply with the requirements of the Privacy Act of 1974, as amended, 5 U.S.C. 552a.

9. To appropriate agencies, entities, and persons when (1) the agency suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

Disclosure to consumer reporting agencies:

None.

Policies and practices for storing, retrieving, accessing, retaining, and disposing of records in the system:

Storage:

Records are stored in both a paper and electronic format. Requests received by e-mail are stored on the FEC's e-mail server.

Retrievability:

Indexed by name of requester.

Safeguards:

Paper records are maintained in locked filing cabinets in limited access areas under personal surveillance during working hours and in locked rooms at other times. All electronic records are protected from unauthorized access through appropriate administrative, physical, and technical safeguards. These safeguards include the application of appropriate access control mechanisms to ensure the confidentiality, integrity, and availability of those records and that they are only accessed by those with a need to know and dictated by their official duties.

Retention and disposal:

FOIA requests are retained in accordance with General Records Schedule 14, as approved by National Archives and Records Administration (NARA).

System manager(s) and address:

Chief FOIA Officer, Federal Election Commission, 999 E Street, NW., Washington, DC 20463, (202/694-1650)

Notification procedure:

A request for notification of the existence of records may be made in person or in writing to the Chief FOIA Officer, Federal Election Commission, 999 E Street, NW., Washington, DC 20463. For additional information, refer to the Commission's access regulations at 11 CFR parts 1.1-1.5, 41 FR 43064 (1976).

Record access procedures:

An individual interested in gaining access to a record pertaining to him or her may make a request in person or in writing to the Chief FOIA Officer, Federal Election Commission at the following address: 999 E Street, NW., Washington, DC 20463. For additional information, refer to the Commission's access regulations at 11 CFR parts 1.1-1.5, 41 FR 43064 (1976).

Contesting record procedures:

Individuals interested in contesting the information contained in their records or the denial of access to such information should notify the Chief FOIA Officer, Federal Election Commission at the following address: 999 E Street, NW., Washington, DC 20463. For additional information, refer to the Commission's regulations for contesting initial denials for access to or amendment of records, 11 CFR parts 1.7-1.9, 41 FR 43064 (1976).

Record source categories:

Persons requesting information from the Commission pursuant to the Freedom of Information Act and employees processing the requests.

Exemptions claimed for the system:

None.

FEC 16

System name:

HSPD-12: Identity Management, Personnel Security, Physical and Logical Access Files.

Security classification:

Sensitive but unclassified.

System location:

Data covered by this system is maintained at the Federal Election Commission, 999 E Street, NW., Washington, DC 20463.

Catgories of individuals covered by the system:

(1) Individuals who require regular, ongoing access to agency facilities, information technology systems and networks, including applicants for employment or contracts with the FEC, agency employees, contractors, students, interns, volunteers, affiliates, and individuals formerly in any of these positions. The system also includes individuals authorized to perform or use services provided in agency facilities (e.g., Health Unit).

(2) Individuals who have been issued HSPD-12 compliant credentials from other Federal agencies who require access to agency facilities.

(3) Visitors and other individuals who require infrequent access to agency facilities including services provided in agency facilities.

Categories of records in the system:

(1) Copies of Forms SF-85, SF-85P, SF-86, SF-87A and FD 258 as supplied by individuals covered by the system.

(2) Enrollment records to be maintained in the system on individuals applying for the Personal Identity Verification (PIV) program and a PIV credential. May include the following data fields: full name, former names, birth date, birth place, Social Security Number, signature, home address, phone numbers, employment history, residential history, education and degrees earned, applicant ID number, digital color photograph, names of associates and references and their contact information, citizenship, names of relatives, birthdates and places of relatives, citizenship of relatives, names of relatives who work for the Federal government, criminal history, mental health history, drug use, financial information, fingerprints, biometric template (two fingerprints), organization/office of assignment, employee affiliation, work e-mail address, work telephone number(s), office address, copies of identity source documents, employee status, military status, summary report of investigation, results of suitability decisions, Government agency code, requests for appeal and PIV issuance location. Additional records include copies of letters of transmittal between the FEC and the Office of Personnel Management concerning the individual's background investigation; copies of certification clearance status and briefing and/or copies of debriefing certificates signed by the individual, as appropriate and copies of PIV application forms as supplied by individuals covered by the system.

(3) Records maintained on individuals issued credentials by the agency. May include the following data fields: hair color; eye color, height; weight; agency affiliation (i.e., employee, contractor, volunteer, etc.); telephone number; PIV card issuance and expiration dates, personal identification number (PIN); Cardholder Unique Identifier (CHUID); card management keys; results of background investigation; PIV request form; PIV registrar approval signature; PIV card serial number; digital certificate(s) serial number; copies of I-9 documents used to verify identification or information derived from those documents such as document title, document issuing authority, document number, document expiration date, or document other information; computer system user name; user access and permission rights, authentication certificates; and digital signature information.

(4) Individuals enrolled in the PIV managed service will be issued a PIV card. The PIV card contains the following mandatory visual personally identifiable information: name, photograph, employee affiliation, organizational affiliation, PIV card expiration date, agency card serial number, and color-coding for employee affiliation. Additional information may include cardholder physical characteristics (height, weight, and eye and hair color). The card also contains an integrated circuit chip which is encoded with the following mandatory data elements which comprise the standard data model for PIV logical credentials: PIV card PIN, cardholder unique identifier (CHUID), PIV authentication digital certificate, and two fingerprint biometric templates. The PIV data model may also include the following logical credentials: digital certificate for digital signature, digital certificate for key management, card authentication keys, and card management system keys. All PIV logical credentials can only be read by machine.

(5) Records maintained on visitors and other individuals who require infrequent access to agency facilities. May include the following data fields: Name, signature, image (photograph), Social Security Number (or one of the following: driver's license number, “green card” number, visa number, or other ID number), images of relevant ID document(s), U.S. Citizenship (yes or no/logical data field), date of entry, time of entry, location of entry, time of exit, location of exit, purpose of entry, agency point of contact, company name, security access category, and access status.

Authority for maintenance of the system:

5 U.S.C. 301; Executive Order 10450; Homeland Security Presidential Directive 12 (HSPD-12), Policy for a Common Identification Standard for Federal Employees and Contractors, August 27, 2004; the Federal Property and Administrative Services Act of 1949, as amended; and Presidential Memorandum on Upgrading Security at Federal Facilities, June 28, 1995.

Purpose(s):

The primary purposes of the system are:

(1) To document and support decisions regarding:

(a) Clearance for access to sensitive but unclassified information;

(b) Suitability, eligibility, and fitness for service of applicants for Federal employment and contract positions, including students, interns, or volunteers to the extent their duties require access to Federal facilities and/or information technology systems and their occupants and users;

(2) To ensure the safety and security of agency facilities and/or information technology systems, and their occupants and users;

(3) To verify that all persons entering agency facilities and/or agency information technology systems with or without smart cards are authorized to enter them;

(4) To provide for interoperability and trust in allowing physical access to individuals entering Federal facilities; and

(5) To allow logical access to Federal information systems, networks, and resources on a government-wide basis.

Routine uses of records maintained in the system, including categories of users and the purposes of such uses:

These records and the information contained in these records may be disclosed as follows:

1. To the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such records by the Department of Justice is deemed, after careful review, by the Federal Election Commission to be relevant and necessary to the litigation, provided, however, that in each case the agency determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Federal Election Commission determines that, after careful review, use of such records is relevant and necessary to the litigation, provided, however, that the agency determines that disclosure of the records is compatible with the purpose for which the records were collected.

3. Except as noted on Forms SF-85, SF 85-P and SF-86, to appropriate Federal, foreign, State, local, tribal, or other public authorities responsible for enforcing, investigating or prosecuting civil or criminal violations of law or as necessary to facilitate parallel investigations or to assist the other agency with the investigation or prosecution of a matter within its jurisdiction.

4. To any source or potential source from which information is requested in the course of an investigation concerning the retention of an employee or other personnel action (other than hiring), or the retention of a security clearance, contract, grant, license, or other benefit, to the extent necessary to identify the individual, inform the source of the nature and purpose of the investigation, and to identify the type of information requested.

5. To a Federal, State, local, foreign, tribal or other public authority of the fact that this system of records contains information relevant to the retention of an employee, the retention of a security clearance, the letting of a contract, or the issuance or retention of a license, grant, or other benefit. The other agency or licensing organization may then make a request supported by written consent of the individual for the entire record if it so chooses. No disclosure will be made unless the information has been determined to be sufficiently reliable to support a referral to another office within the agency or to another Federal agency for criminal, civil, administrative, personnel, or regulatory action.

6. To Federal, State, and local law enforcement agencies and private security contractors, as appropriate, to enable them to protect the safety of Commission employees and visitors and the security of the Commission's workplace; and to assist investigations or prosecutions with respect to activities that affect such safety and security or activities that disrupt the operation of Commission facilities.

7. To a congressional office from the record of an individual in response to an inquiry from the congressional office made at the written request of the individual about whom the record is maintained (e.g., a constituent request). Disclosure will not be made until the congressional office has furnished appropriate documentation of the individual's request, such as a copy of the individual's written request.

8. To the National Archives and Records Administration or to the General Services Administration for records management inspections conducted under 44 U.S.C. 2903 and 2904.

9. To contractors (including employees of contractors), grantees, experts, or volunteers who have been engaged to assist the agency in the performance of a contract, service, grant, cooperative agreement, or other activity related to this system of records and who need to have access to the records in order to perform the activity for the agency. Recipients shall be required to comply with the requirements of the Privacy Act of 1974, as amended, 5 U.S.C. 552a.

10. To an authorized appeal grievance examiner, formal complaints examiner, equal employment opportunity investigator, arbitrator or other person properly engaged in investigation or settlement of an administrative grievance, complaint, claim, or appeal filed by an employee or former employee, but only to the extent that information is relevant and necessary to the proceeding. Agencies that may obtain information under this routine use include, but are not limited to, the Office of Personnel Management, Office of Special Counsel, Merit Systems Protection Board, Federal Labor Relations Authority, Equal Employment Opportunity Commission, and Office of Government Ethics.

11. To the Office of Personnel Management for matters concerned with oversight activities (necessary for the Office of Personnel Management to carry out its legally-authorized Government-wide personnel management programs and functions) and in their role as an investigation agency.

12. To an official of another Federal agency to provide information needed in the performance of official duties related to reconciling or reconstructing data files, in support of the functions for which records were collected and maintained.

13. To an approved shared service provider in fulfillment of the terms of the HSPD-12 shared services agreement. Note: Although the shared service provider will manage the system that produces the identity credentials used by the agency, the shared service provider will not have access to the content of the data provided by the agency except to the extent that is required to provide for its integrity, reliability and security.

14. To other Federal agencies providing enrollment services to the shared service provider when the shared service provider has entered into agreements with these agencies to provide enrollment services to their employees, contractors, etc. but not identification credentials, through third party enrollment brokers serving as links in the secure chain of custody for the HSPD-12 process.

15. To appropriate agencies, entities, and persons when (1) the agency suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

16. To designated agency personnel for controlled access to specific records for the purposes of performing authorized audit or authorized oversight and administrative functions. All access is controlled systematically through authentication using PIV credentials based on access and authorization rules for specific audit and administrative functions.

Disclosure to consumer reporting agencies:

Pursuant to 5 U.S.C. 552a(b)(12), records can be disclosed to consumer reporting agencies as they are defined in the Fair Credit Reporting Act.

Policies and practices for storing, retrieving, accessing, retaining, and disposing of records in the system:

Storage:

Records are stored on paper and electronically in a secure location.

Retrievability:

Records are retrievable by name of employee or covered individual, Cardholder Unique Identification Number, Applicant ID, Social Security Number, and/or by any other unique individual identifier.

Safeguards:

Access to records covered by the system will be permitted only to authorized personnel in accordance with requirements found in agency Privacy Act regulations. Persons given roles in the PIV process must complete training specific to their roles to ensure they are knowledgeable about how to protect individually identifiable information regardless of how and where it is stored. Paper records will be maintained in locked filing cabinets in limited access areas within the Office of Human Resources and Labor Relations under personal surveillance during working hours and in locked rooms at other times. Access to the records will be limited to those employees who have a need for them in the performance of their official duties. All agency electronic records will be protected from unauthorized access through appropriate administrative, physical, and technical safeguards. These safeguards include the application of appropriate access control mechanisms to ensure the confidentiality, integrity, and availability of those records and that they are only accessed by those with a need to know and dictated by their official duties. Should the shared service provider be another Federal agency, records maintained by that agency may also be subject to the safeguards outlined in that agency's systems of records notice.

Retention and disposal:

(1) Paper personnel security records relating to individuals covered by the system are generally retained and disposed in accordance with General Records Schedule 18, Item No. 22, approved by the National Archives and Records Administration (NARA).

(2) In accordance with HSPD-12, PIV cards are deactivated within 18 hours of cardholder separation, loss of card, or expiration. The information on PIV cards is maintained in accordance with General Records Schedule 11, Item No. 4. PIV cards are destroyed by cross-cut shredding no later than 90 days after deactivation.

(3) Building security records relating to persons covered by this system are retained in accordance with General Records Schedule 18, Item No. 17. Unless retained for specific ongoing security investigations:

(a) Records relating to individuals other than employees are destroyed two years after ID security card expiration date;

(b) Records relating to date and time of entry and exit of employees are destroyed two years after date of entry and exit; and

(c) All other records relating to employees are destroyed two years after ID security card expiration date.

System manager(s) and address:

(1) For personnel security: Personnel Security Manager, Federal Election Commission, 999 E Street, NW., Washington, DC 20463.

(2) For physical security: Administrative Services Manager, Federal Election Commission, 999 E Street, NW., Washington, DC 20463.

(3) For logical security: Information Systems Security Officer, Federal Election Commission, 999 E Street, NW., Washington, DC 20463.

Notification procedures:

A request for notification of the existence of personnel security records may be made in person or in writing and addressed to the FEC personnel security manager identified in (1), above. A request for notification of the existence of physical security records may be made in person or in writing and addressed to the FEC physical security manager identified in (2), above. A request for notification of the existence of logical security records may be made in person or in writing and addressed to the FEC logical security manager identified in (3), above. For additional information, refer to the Commission's access regulations at 11 CFR parts 1.1-1.5, 41 FR 43064 (1976).

Record access procedures:

An individual interested in gaining access to a personnel security record pertaining to him or her may make a request in person or in writing to the FEC personnel security manager identified in (1), above at the following address: 999 E Street, NW., Washington, DC 20463. An individual interested in gaining access to a physical security record pertaining to him or her may make a request in person or in writing to the FEC physical security manager identified in (2), above at the following address: 999 E Street, NW., Washington, DC 20463. An individual interested in gaining access to a logical security record pertaining to him or her may make a request in person or in writing to the FEC logical security manager identified in (3), above at the following address: 999 E Street, NW., Washington, DC 20463. For additional information, refer to the Commission's access regulations at 11 CFR parts 1.1-1.5, 41 FR 43064 (1976).

Contesting record procedures:

Individuals interested in contesting the information contained in their personnel security records or the denial of access to such information should notify the FEC personnel security manager identified in (1), above at the following address: 999 E Street, NW., Washington, DC 20463. Individuals interested in contesting the information contained in their physical security records or the denial of access to such information should notify the FEC physical security manager identified in (2), above at the following address: 999 E Street, NW., Washington, DC 20463. Individuals interested in contesting the information contained in their logical security records or the denial of access to such information should notify the FEC logical security manager identified in (3), above at the following address: 999 E Street, NW., Washington, DC 20463. For additional information regarding contesting initial denials for access to or amendments of Privacy Act records, refer to the Commission's regulations at 11 CFR parts 1.7-1.9, 41 FR 43064 (1976).

Record source categories:

Information is obtained from a variety of sources including the employee, contractor, or applicant via the use of the SF-85, SF-85P, or SF-86 and personal interviews; employers' and former employers' records; other Federal agencies supplying data on covered individuals; FBI criminal history records and other databases; financial institutions and credit reports; medical records and health care providers; and educational institutions. Information is also obtained from individuals covered by the system, supervisors, and designated approving officials, as well as other Federal agencies issuing HSPD-12 compliant cards, and HSPD-12 compliant cards carried by individuals seeking access to Commission and other Federal facilities occupied by agency employees.

Exemptions claimed for the system:

None.

[FR Doc. E7-25109 Filed 12-31-07; 8:45 am]

BILLING CODE 6715-01-P